DEPARTMENT OF HOUSING AND URBAN DEVELOPMENT

[Docket No. FR-5125-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Kathryn Halvorson, Director, Air Force Real Property Agency, 1700 North Moore St., Suite 2300, Arlington, VA 22209-2802; (703) 696-5502; COE: Ms. Tracy Beck, Army Corps of Engineers, Office of Counsel CECC-R, 441 G Street, NW., Washington, DC 20314-1000; (202) 761-0019; Navy: Mr. Warren Meekins, Associate Director, Department of the Navy, Real Estate Services, Naval Facilities Engineering Command, Washington Navy Yard, 1322 Patterson Ave., SE., Suite 1000, Washington, DC 20374-5065; (202) 685-9305; (These are not toll-free numbers).

Mark R. Johnston,
Deputy Assistant Secretary for Special Needs.

TITLE V, Federal Surplus Property Program

Federal Register Report for 02/16/2007

Suitable/Available Properties

Building

Hawaii

Bldg. 849

Bellows AFS

Bellows AFS HI

Landholding Agency: Air Force

Property Number: 18200330008

Status: Unutilized

Comments: 462 sq. ft., concrete storage facility, off-site use only

Kentucky

Green River Lock #3

Rochester Co: Butler KY 42273

Landholding Agency: COE

Property Number: 31199010022

Status: Unutilized

Directions: SR 70 west from Morgantown, KY, approximately 7 miles to site

Comments: 980 sq. ft.; 2 story wood frame; two story residence; potential utilities; needs major rehab

Missouri

Bldgs. 90A/B, 91A/B, 92A/B

Jefferson Barracks Housing

St. Louis MO 63125

Landholding Agency: Air Force

Property Number: 18200220002

Status: Excess

Comments: 6450 sq. ft., needs repair, includes 2 acres

Suitable/Available Properties

Building

Montana

Bldg. 1

Butte Natl Guard

Butte Co: Silverbow MT 59701

Landholding Agency: COE

Property Number: 31200040010

Status: Unutilized

Comments: 22799 sq. ft., presence of asbestos, most recent use—cold storage, off-site use only

Bldg. 2

Butte Natl Guard

Butte Co: Silverbow MT 59701

Landholding Agency: COE

Property Number: 31200040011

Status: Unutilized

Comments: 3292 sq. ft., most recent use—cold storage, off-site use only

Bldg. 3

Butte Natl Guard

Butte Co: Silverbow MT 59701

Landholding Agency: COE

Property Number: 31200040012

Status: Unutilized

Comments: 964 sq. ft., most recent use—cold storage, off-site use only

Bldg. 4

Butte Natl Guard

Butte Co: Silverbow MT 59701

Landholding Agency: COE

Property Number: 31200040013

Status: Unutilized

Comments: 72 sq. ft., most recent use—cold storage, off-site use only

Suitable/Available Properties

Building

Montana

Bldg. 5

Butte Natl Guard

Butte Co: Silverbow MT 59701

Landholding Agency: COE

Property Number: 31200040014

Status: Unutilized

Comments: 1286 sq. ft., most recent use—cold storage, off-site use only

New York

Bldg. 240

Rome Lab

Rome Co: Oneida NY 13441

Landholding Agency: Air Force

Property Number: 18200340023

Status: Unutilized

Comments: 39108 sq. ft., presence of asbestos, most recent use—Electronic Research Lab

Bldg. 247

Rome Lab

Rome Co: Oneida NY 13441

Landholding Agency: Air Force

Property Number: 18200340024

Status: Unutilized

Comments: 13199 sq. ft., presence of asbestos, most recent use—Electronic Research Lab

Bldg. 248

Rome Lab

Rome Co: Oneida NY 13441

Landholding Agency: Air Force

Property Number: 18200340025

Status: Unutilized

Comments: 4000 sq. ft., presence of asbestos, most recent use—Electronic Research Lab

Suitable/Available Properties

Building

New York

Bldg. 302

Rome Lab

Rome Co: Oneida NY 13441

Landholding Agency: Air Force

Property Number: 18200340026

Status: Unutilized

Comments: 10288 sq. ft., presence of asbestos, most recent use—communications facility

Ohio

Barker Historic House

Willow Island Locks and Dam

Newport Co: Washington OH 45768-9801

Landholding Agency: COE

Property Number: 31199120018

Status: Unutilized

Directions: Located at lock site, downstream of lock and dam structure

Comments: 1600 sq. ft. bldg. with 1/2 acre of land, 2 story brick frame, needs rehab, on Natl Register of Historic Places, no utilities, off-site use only

Structure

21897 Deer Creek Road

Mt. Sterling Co: Pickaway OH 43143

Landholding Agency: COE

Property Number: 31200540009

Status: Unutilized

Comments: 1321 sq. ft., brick, off-site use only

Suitable/Available Properties

Building

Pennsylvania

Mahoning Creek Reservoir

New Bethlehem Co: Armstrong PA 16242

Landholding Agency: COE

Property Number: 31199210008

Status: Unutilized

Comments: 1015 sq. ft., 2 story brick residence, off-site use only

Dwelling

Lock 6, Allegheny River, 1260 River Rd.

Freeport Co: Armstrong PA 16229-2023

Landholding Agency: COE

Property Number: 31199620008

Status: Unutilized

Comments: 2652 sq. ft., 3-story brick house, in close proximity to Lock and Dam, available for interim use for nonresidential purposes

Govt. Dwelling

Youghiogheny River Lake

Confluence Co: Fayette PA 15424-9103

Landholding Agency: COE

Property Number: 31199640002

Status: Unutilized

Comments: 1421 sq. ft., 2-story brick w/basement, most recent use—residential

Dwelling

Lock 4, Allegheny River

Natrona Co: Allegheny PA 15065-2609

Landholding Agency: COE

Property Number: 31199710009

Status: Unutilized

Comments: 1664 sq. ft., 2-story brick residence, needs repair, off-site use only

Suitable/Available Properties

Building

Pennsylvania

Dwelling #1

Crooked Creek Lake

Ford City Co: Armstrong PA 16226-8815

Landholding Agency: COE

Property Number: 31199740002

Status: Excess

Comments: 2030 sq. ft., most recent use—residential, good condition, off-site use only

Dwelling #2

Crooked Creek Lake

Ford City Co: Armstrong PA 16226-8815

Landholding Agency: COE

Property Number: 31199740003

Status: Excess

Comments: 3045 sq. ft., most recent use—residential, good condition, off-site use only

Govt Dwelling

East Branch Lake

Wilcox Co: Elk PA 15870-9709

Landholding Agency: COE

Property Number: 31199740005

Status: Underutilized

Comments: approx. 5299 sq. ft., 1-story, most recent use—residence, off-site use only

Dwelling #1

Loyalhanna Lake

Saltsburg Co: Westmoreland PA 15681-9302

Landholding Agency: COE

Property Number: 31199740006

Status: Excess

Comments: 1996 sq. ft., most recent use—residential, good condition, off-site use only

Suitable/Available Properties

Building

Pennsylvania

Dwelling #2

Loyalhanna Lake

Saltsburg Co: Westmoreland PA 15681-9302

Landholding Agency: COE

Property Number: 31199740007

Status: Excess

Comments: 1996 sq. ft., most recent use—residential, good condition, off-site use only

Dwelling #1

Woodcock Creek Lake

Saegertown Co: Crawford PA 16433-0629

Landholding Agency: COE

Property Number: 31199740008

Status: Excess

Comments: 2106 sq. ft., most recent use—residential, good condition, off-site use only

Dwelling #2

Lock 6, 1260 River Road

Freeport Co: Armstrong PA 16229-2023

Landholding Agency: COE

Property Number: 31199740009

Status: Excess

Comments: 2652 sq. ft., most recent use—residential, good condition, off-site use only

Dwelling #2

Youghiogheny River Lake

Confluence Co: Fayette PA 15424-9103

Landholding Agency: COE

Property Number: 31199830003

Status: Excess

Comments: 1421 sq. ft., 2-story + basement, most recent use—residential

Suitable/Available Properties

Building

Pennsylvania

Residence A

2045 Pohopoco Drive

Lehighton Co: Carbon PA 18235

Landholding Agency: COE

Property Number: 31200410007

Status: Unutilized

Comments: 1200 sq. ft., presence of asbestos, off-site use only

South Carolina

4 Bldgs.

Charleston AFB

N. Charleston SC 29404

Landholding Agency: Air Force

Property Number: 18200430025

Status: Excess

Directions: 2314A/B, 2327A/B, 2339A/B, 2397A/B

Comments: 2722 sq. ft., presence of asbestos/lead paint, most recent use—residential, off-site use only

4 Bldgs.

Charleston AFB

N. Charleston SC 29404

Landholding Agency: Air Force

Property Number: 18200430027

Status: Excess

Directions: 2315A/B, 2323A/B, 2330A/B, 2387A/B

Comments: 2756 sq. ft., presence of asbestos/lead paint, most recent use—residential, off-site use only

Suitable/Available Properties

Building

South Carolina

3 Bldgs.

Charleston AFB

N. Charleston SC 29404

Landholding Agency: Air Force

Property Number: 18200430028

Status: Excess

Directions: 2321A/B, 2326A/B, 2336A/B

Comments: 2766 sq. ft., presence of asbestos/lead paint, most recent use—residential, off-site use only

Bldg. 2331A/B

Charleston AFB

N. Charleston SC 29494

Landholding Agency: Air Force

Property Number: 18200430029

Status: Excess

Comments: 2803 sq. ft., presence of asbestos/lead paint, most recent use—residential, off-site use only

Bldg. 2341A/B

Charleston AFB

N. Charleston SC 29404

Landholding Agency: Air Force

Property Number: 18200430030

Status: Excess

Comments: 2715 sq. ft., presence of asbestos/lead paint, most recent use—residential, off-site use only

Suitable/Available Properties

Building

South Carolina

4 Bldgs.

Charleston AFB

N. Charleston SC 29404

Landholding Agency: Air Force

Property Number: 18200430048

Status: Excess

Directions: 1846A/B, 1853A/B, 1862A/B, 2203A/B

Comments: 2363 sq. ft., presence of asbestos/lead paint, most recent use—residential, off-site use only

Bldg. 1828A/B

Charleston AFB

N. Charleston SC 29404

Landholding Agency: Air Force

Property Number: 18200430052

Status: Excess

Comments: 2330 sq. ft., presence of asbestos/lead paint, most recent use—residential, off-site use only

Land

Kentucky

Tract 2625

Barkley Lake, Kentucky, and Tennessee

Cadiz Co: Trigg KY 42211

Landholding Agency: COE

Property Number: 31199010025

Status: Excess

Directions: Adjoining the village of Rockcastle

Comments: 2.57 acres; rolling and wooded

Suitable/Available Properties

Land

Kentucky

Tract 2709-10 and 2710-2

Barkley Lake, Kentucky and Tennessee

Cadiz Co: Trigg KY 42211

Landholding Agency: COE

Property Number: 31199010026

Status: Excess

Directions: 2½ miles in a southerly direction from the village of Rockcastle

Comments: 2.00 acres; steep and wooded

Tract 2708-1 and 2709-1

Barkley Lake, Kentucky and Tennessee

Cadiz Co: Trigg KY 42211

Landholding Agency: COE

Property Number: 31199010027

Status: Excess

Directions: 2½ miles in a southerly direction from the village of Rockcastle

Comments: 3.59 acres; rolling and wooded; no utilities

Tract 2800

Barkley Lake, Kentucky and Tennessee

Cadiz Co: Trigg KY 42211

Landholding Agency: COE

Property Number: 31199010028

Status: Excess

Directions: 4½ miles in a southeasterly direction from the village of Rockcastle

Comments: 5.44 acres; steep and wooded

Suitable/Available Properties

Land

Kentucky

Tract 2915

Barkley Lake, Kentucky and Tennessee

Cadiz Co: Trigg KY 42211

Landholding Agency: COE

Property Number: 31199010029

Status: Excess

Directions: 6½ miles west of Cadiz

Comments: 5.76 acres; steep and wooded; no utilities

Tract 2702

Barkley Lake, Kentucky and Tennessee

Cadiz Co: Trigg KY 42211

Landholding Agency: COE

Property Number: 31199010031

Status: Excess

Directions: 1 mile in a southerly direction from the village of Rockcastle

Comments: 4.90 acres; wooded; no utilities

Tract 4318

Barkley Lake, Kentucky and Tennessee

Canton Co: Trigg KY 42212

Landholding Agency: COE

Property Number: 31199010032

Status: Excess

Directions: Trigg Co. adjoining the city of Canton, KY on the waters of Hopson Creek

Comments: 8.24 acres; steep and wooded

Suitable/Available Properties

Land

Kentucky

Tract 4502

Barkley Lake, Kentucky and Tennessee

Canton Co: Trigg KY 42212

Landholding Agency: COE

Property Number: 31199010033

Status: Excess

Directions: 3½ miles in a southerly direction from Canton, KY

Comments: 4.26 acres; steep and wooded

Tract 4611

Barkley Lake, Kentucky and Tennessee

Canton Co: Trigg KY 42212

Landholding Agency: COE

Property Number: 31199010034

Status: Excess

Directions: 5 miles south of Canton, KY

Comments: 10.51 acres; steep and wooded; no utilities

Tract 4619

Barkley Lake, Kentucky and Tennessee

Canton Co: Trigg KY 42212

Landholding Agency: COE

Property Number: 31199010035

Status: Excess

Directions: 4½ miles south from Canton, KY

Comments: 2.02 acres; steep and wooded; no utilities

Suitable/Available Properties

Land

Kentucky

Tract 4817

Barkley Lake, Kentucky and Tennessee

Canton Co: Trigg KY 42212

Landholding Agency: COE

Property Number: 31199010036

Status: Excess

Directions: 6½ miles south of Canton, KY

Comments: 1.75 acres; wooded

Tract 1217

Barkley Lake, Kentucky and Tennessee

Eddyville Co: Lyon KY 42030

Landholding Agency: COE

Property Number: 31199010042

Status: Excess

Directions: On the north side of the Illinois Central Railroad

Comments: 5.80 acres; steep and wooded

Tract 1906

Barkley Lake, Kentucky and Tennessee

Eddyville Co: Lyon KY 42030

Landholding Agency: COE

Property Number: 31199010044

Status: Excess

Directions: Approximately 4 miles east of Eddyville, KY

Comments: 25.86 acres; rolling steep and partially wooded; no utilities

Suitable/Available Properties

Land

Kentucky

Tract 1907

Barkley Lake, Kentucky and Tennessee

Eddyville Co: Lyon KY 42038

Landholding Agency: COE

Property Number: 31199010045

Status: Excess

Directions: On the waters of Pilfen Creek, 4 miles east of Eddyville, KY

Comments: 8.71 acres; rolling steep and wooded; no utilities

Tract 2001 #1

Barkley Lake, Kentucky and Tennessee

Eddyville Co: Lyon KY 42030

Landholding Agency: COE

Property Number: 31199010046

Status: Excess

Directions: Approximately 4½ miles east of Eddyville, KY

Comments: 47.42 acres; steep and wooded; no utilities

Tract 2001 #2

Barkley Lake, Kentucky and Tennessee

Eddyville Co: Lyon KY 42030

Landholding Agency: COE

Property Number: 31199010047

Status: Excess

Directions: Approximately 4½ miles east of Eddyville, KY

Comments: 8.64 acres; steep and wooded; no utilities

Suitable/Available Properties

Land

Kentucky

Tract 2005

Barkley Lake, Kentucky and Tennessee

Eddyville Co: Lyon KY 42030

Landholding Agency: COE

Property Number: 31199010048

Status: Excess

Directions: Approximately 5½ miles east of Eddyville, KY

Comments: 4.62 acres; steep and wooded; no utilities

Tract 2307

Barkley Lake, Kentucky and Tennessee

Eddyville Co: Lyon KY 42030

Landholding Agency: COE

Property Number: 31199010049

Status: Excess

Directions: Approximately 7½ miles southeasterly of Eddyville, KY

Comments: 11.43 acres; steep; rolling and wooded; no utilities

Tract 2403

Barkley Lake, Kentucky and Tennessee

Eddyville Co: Lyon KY 42030

Landholding Agency: COE

Property Number: 31199010050

Status: Excess

Directions: 7 miles southeasterly of Eddyville, KY

Comments: 1.56 acres; steep and wooded; no utilities

Suitable/Available Properties

Land

Kentucky

Tract 2504

Barkley Lake, Kentucky and Tennessee

Eddyville Co: Lyon KY 42030

Landholding Agency: COE

Property Number: 31199010051

Status: Excess

Directions: 9 miles southeasterly of Eddyville, KY

Comments: 24.46 acres; steep and wooded; no utilities

Tract 214

Barkley Lake, Kentucky and Tennessee

Grand Rivers Co: Lyon KY 42045

Landholding Agency: COE

Property Number: 31199010052

Status: Excess

Directions: South of the Illinois Central Railroad, 1 mile east of the Cumberland River

Comments: 5.5 acres; wooded; no utilities

Tract 215

Barkley Lake, Kentucky and Tennessee

Grand Rivers Co: Lyon KY 42045

Landholding Agency: COE

Property Number: 31199010053

Status: Excess

Directions: 5 miles southwest of Kuttawa

Comments: 1.40 acres; wooded; no utilities

Suitable/Available Properties

Land

Kentucky

Tract 241

Barkley Lake, Kentucky and Tennessee

Grand Rivers Co: Lyon KY 42045

Landholding Agency: COE

Property Number: 31199010054

Status: Excess

Directions: Old Henson Ferry Road, 6 miles west of Kuttawa, KY

Comments: 1.26 acres; steep and wooded; no utilities

Tracts 306, 311, 315 and 325

Barkley Lake, Kentucky and Tennessee

Grand Rivers Co: Lyon KY 42045

Landholding Agency: COE

Property Number: 31199010055

Status: Excess

Directions: 2.5 miles southwest of Kuttawa, KY on the waters of Cypress Creek

Comments: 38.77 acres; steep and wooded; no utilities

Tracts 2305, 2306, and 2400-1

Barkley Lake, Kentucky and Tennessee

Eddyville Co: Lyon KY 42030

Landholding Agency: COE

Property Number: 31199010056

Status: Excess

Directions: 6½ miles southeasterly of Eddyville, KY

Comments: 97.66 acres; steep rolling and wooded; no utilities

Suitable/Available Properties

Land

Kentucky

Tracts 5203 and 5204

Barkley Lake, Kentucky and Tennessee

Linton Co: Trigg KY 42212

Landholding Agency: COE

Property Number: 31199010058

Status: Excess

Directions: Village of Linton, KY state highway 1254

Comments: 0.93 acres; rolling, partially wooded; no utilities

Tract 5240

Barkley Lake, Kentucky and Tennessee

Linton Co: Trigg KY 42212

Landholding Agency: COE

Property Number: 31199010059

Status: Excess

Directions: 1 mile northwest of Linton, KY

Comments: 2.26 acres; steep and wooded; no utilities

Tract 4628

Barkley Lake, Kentucky and Tennessee

Canton Co: Trigg KY 42212

Landholding Agency: COE

Property Number: 31199011621

Status: Excess

Directions: 4½ miles south from Canton, KY

Comments: 3.71 acres; steep and wooded; subject to utility easements

Suitable/Available Properties

Land

Kentucky

Tract 4619-B

Barkley Lake, Kentucky and Tennessee

Canton Co: Trigg KY 42212

Landholding Agency: COE

Property Number: 31199011622

Status: Excess

Directions: 4½ miles south from Canton, KY

Comments: 1.73 acres; steep and wooded; subject to utility easements

Tract 2403-B

Barkley Lake, Kentucky and Tennessee

Eddyville Co: Lyon KY 42038

Landholding Agency: COE

Property Number: 31199011623

Status: Unutilized

Directions: 7 miles southeasterly from Eddyville, KY

Comments: 0.70 acres, wooded; subject to utility easements

Tract 241-B

Barkley Lake, Kentucky and Tennessee

Grand Rivers Co: Lyon KY 42045

Landholding Agency: COE

Property Number: 31199011624

Status: Excess

Directions: South of Old Henson Ferry Road, 6 miles west of Kuttawa, KY

Comments: 11.16 acres; steep and wooded; subject to utility easements

Suitable/Available Properties

Land

Kentucky

Tracts 212 and 237

Barkley Lake, Kentucky and Tennessee

Grand Rivers Co: Lyon KY 42045

Landholding Agency: COE

Property Number: 31199011625

Status: Excess

Directions: Old Henson Ferry Road, 6 miles west of Kuttawa, KY

Comments: 2.44 acres; steep and wooded; subject to utility easements

Tract 215-B

Barkley Lake, Kentucky and Tennessee

Grand Rivers Co: Lyon KY 42045

Landholding Agency: COE

Property Number: 31199011626

Status: Excess

Directions: 5 miles southwest of Kuttawa

Comments: 1.00 acres; wooded; subject to utility easements

Tract 233

Barkley Lake, Kentucky and Tennessee

Grand Rivers Co: Lyon KY 42045

Landholding Agency: COE

Property Number: 31199011627

Status: Excess

Directions: 5 miles southwest of Kuttawa

Comments: 1.00 acres; wooded; subject to utility easements

Suitable/Available Properties

Land

Kentucky

Tract N-819

Dale Hollow Lake Project

Illwill Creek, Hwy 90

Hobart Co: Clinton KY 42601

Landholding Agency: COE

Property Number: 31199140009

Status: Underutilized

Comments: 91 acres, most recent use—hunting, subject to existing easements

Missouri

Communications Site

County Road 424

Dexter Co: Stoddard MO

Landholding Agency: Air Force

Property Number: 18200710001

Status: Unutilized

Comments: 10.63 acres

Harry S Truman Dam

Warsaw Co: Benton MO 65355

Landholding Agency: COE

Property Number: 31199030014

Status: Underutilized

Directions: Triangular shaped parcel southwest of access road “B”, part of Bledsoe Ferry Park

Tract 150

Comments: 1.7 acres; potential utilities

Suitable/Available Properties

Land

Oklahoma

Pine Creek Lake

Section 27

(See County) Co: McCurtain OK

Landholding Agency: COE

Property Number: 31199010923

Status: Unutilized

Comments: 3 acres; no utilities; subject to right of way for Oklahoma State Highway 3

Pennsylvania

Mahoning Creek Lake

New Bethlehem Co: Armstrong PA 16242-9603

Landholding Agency: COE

Property Number: 31199010018

Status: Excess

Directions: Route 28 north to Belknap, Road #4

Comments: 2.58 acres; steep and densely wooded

Tracts 610, 611, 612

Shenango River Lake

Sharpsville Co: Mercer PA 16150

Landholding Agency: COE

Property Number: 31199011001

Status: Excess

Directions: I-79 North, I-80 West, Exit Sharon. R18 North 4 miles, left on R518, right on Mercer Avenue

Comments: 24.09 acres; subject to flowage easement

Suitable/Available Properties

Land

Pennsylvania

Tracts L24, L26

Crooked Creek Lake Null Co: Armstrong PA 03051

Landholding Agency: COE

Property Number: 31199011011

Status: Unutilized

Directions: Left bank—55 miles downstream of dam

Comments: 7.59 acres; potential for utilities

Portion of Tract L-21A

Crooked Creek Lake, LR 03051

Ford City Co: Armstrong PA 16226

Landholding Agency: COE

Property Number: 31199430012

Status: Unutilized

Comments: Approximately 1.72 acres of undeveloped land, subject to gas rights

Tennessee

Tract 6827

Barkley Lake

Dover Co: Stewart TN 37058

Landholding Agency: COE

Property Number: 31199010927

Status: Excess

Directions: 2½ miles west of Dover, TN

Comments: .57 acres; subject to existing easements

Suitable/Available Properties

Land

Tennessee

Tracts 6002-2 and 6010

Barkley Lake

Dover Co: Stewart TN 37058

Landholding Agency: COE

Property Number: 31199010928

Status: Excess

Directions: 3½ miles south of village of Tabaccoport

Comments: 100.86 acres; subject to existing easements

Tract 1

Barkley Lake

Ashland City Co: Dickson TN 37015

Landholding Agency: COE

Property Number: 31199010929

Status: Excess

Directions: ½ mile downstream from Cheatham Dam

Comments: 26.25 acres; subject to existing easements

Tract 2319

J. Percy Priest Dam and Resorvoir

Murfreesboro Co: Rutherford TN 37130

Landholding Agency: COE

Property Number: 31199010930

Status: Excess

Directions: West of Buckeye Bottom Road

Comments: 14.48 acres; subject to existing easements

Suitable/Available Properties

Land

Tennessee

Tract 2227

J. Percy Priest Dam and Resorvoir

Murfreesboro Co: Rutherford TN 37130

Landholding Agency: COE

Property Number: 31199010931

Status: Excess

Directions: Old Jefferson Pike

Comments: 2.27 acres; subject to existing easements

Tract 2107

J. Percy Priest Dam and Reservoir

Murfreesboro Co: Rutherford TN 37130

Landholding Agency: COE

Property Number: 31199010932

Status: Excess

Directions: Across Fall Creek near Fall Creek camping area

Comments: 14.85 acres; subject to existing easements

Tracts 2601,2602,2603,2604

Cordell Hull Lake and Dam Project

Doe Row Creek

Gainesboro Co: Jackson TN 38562

Landholding Agency: COE

Property Number: 31199010933

Status: Unutilized

Directions: TN Highway 56

Comments: 11 acres; subject to existing easements

Suitable/Available Properties

Land

Tennessee

Tract 1911

J. Percy Priest Dam and Reservoir

Murfreesboro Co: Rutherford TN 37130

Landholding Agency: COE

Property Number: 31199010934

Status: Excess

Directions: East of Lamar Road

Comments: 6.92 acres; subject to existing easements

Tract 7206

Barkley Lake

Dover Co: Stewart TN 37058

Landholding Agency: COE

Property Number: 31199010936

Status: Excess

Directions: 2½ miles SE of Dover, TN

Comments: 10.15 acres; subject to existing easements

Tracts 8813, 8814

Barkley Lake

Cumberland Co: Stewart TN 37050

Landholding Agency: COE

Property Number: 31199010937

Status: Excess

Directions: 1½ miles East of Cumberland City

Comments: 96 acres; subject to existing easements

Suitable/Available Properties

Land

Tennessee

Tract 8911

Barkley Lake

Cumberland City Co: Montgomery TN 37050

Landholding Agency: COE

Property Number: 31199010938

Status: Excess

Directions: 4 miles east of Cumberland City

Comments: 7.7 acres; subject to existing easements

Tract 11503

Barkley Lake

Ashland City Co: Cheatham TN 37015

Landholding Agency: COE

Property Number: 31199010939

Status: Excess

Directions: 2 miles downstream from Cheatham Dam

Comments: 1.1 acres; subject to existing easements

Tracts 11523, 11524

Barkley Lake

Ashland City Co: Cheatham TN 37015

Landholding Agency: COE

Property Number: 31199010940

Status: Excess

Directions: 2½ miles downstream from Cheatham Dam

Comments:

19.5 acres; subject to existing easements

Suitable/Available Properties

Land

Tennessee

Tract 6410

Barkley Lake

Bumpus Mills Co: Stewart TN 37028

Landholding Agency: COE

Property Number: 31199010941

Status: Excess

Directions: 4½ miles SW. of Bumpus Mills

Comments: 17 acres; subject to existing easements

Tract 9707

Barkley Lake

Palmyer Co: Montgomery TN 37142

Landholding Agency: COE

Property Number: 31199010943

Status: Excess

Directions: 3 miles NE of Palmyer, TN. Highway 149

Comments: 6.6 acres; subject to existing easements

Tract 6949

Barkley Lake

Dover Co: Stewart TN 37058

Landholding Agency: COE

Property Number: 31199010944

Status: Excess

Directions: 1½ miles SE of Dover, TN

Comments: 29.67 acres; subject to existing easements

Suitable/Available Properties

Land

Tennessee

Tracts 6005 and 6017

Barkley Lake

Dover Co: Stewart TN 37058

Landholding Agency: COE

Property Number: 31199011173

Status: Excess

Directions: 3 miles south of Village of Tobaccoport

Comments: 5 acres; subject to existing easements

Tracts K-1191, K-1135

Old Hickory Lock and Dam

Hartsville Co: Trousdale TN 37074

Landholding Agency: COE

Property Number: 31199130007

Status: Underutilized

Comments: 54 acres, (portion in floodway), most recent use—recreation

Tract A-102

Dale Hollow Lake Project

Canoe Ridge, State Hwy 52

Celina Co: Clay TN 38551

Landholding Agency: COE

Property Number: 31199140006

Status: Underutilized

Comments: 351 acres, most recent use—hunting, subject to existing easements

Tract A-120

Dale Hollow Lake Project

Swann Ridge, State Hwy No. 53

Celina Co: Clay TN 38551

Landholding Agency: COE

Property Number: 31199140007

Status: Underutilized

Comments: 883 acres, most recent use—hunting, subject to existing easements

Suitable/Available Properties

Land

Tennessee

Tract D-185

Dale Hollow Lake Project Ashburn Creek, Hwy No. 53

Livingston Co: Clay TN 38570

Landholding Agency: COE

Property Number: 31199140010

Status: Underutilized

Comments: 97 acres, most recent use—hunting, subject to existing easements

Summary for Suitable/Available Properties = Total number of Properties 110

Suitable/Unavailable Properties

Building

Illinois

Bldg. 7

Ohio River Locks No. 53

Grand Chain Co: Pulaski IL 62941-9801

Landholding Agency: COE

Property Number: 31199010001

Status: Unutilized

Directions: Ohio River Locks and Dam No. 53 at Grand Chain

Comments: 900 sq. ft.; 1 floor wood frame; most recent use—residence

Bldg. 6

Ohio River Locks No. 53

Grand Chain Co: Pulaski IL 62941-9801

Landholding Agency: COE

Property Number: 31199010002

Status: Unutilized

Directions: Ohio River Locks and Dam No. 53 at Grand Chain

Comments: 900 sq. ft.; one floor wood frame; most recent use—residence

Suitable/Unavailable Properties

Building

Illinois

Bldg. 5

Ohio River Locks No. 53

Grand Chain Co: Pulaski IL 62941-9801

Landholding Agency: COE

Property Number: 31199010003

Status: Unutilized

Directions: Ohio River Locks and Dam No. 53 at Grand Chain

Comments: 900 sq. ft.; one floor wood frame; most recent use—residence

Bldg. 4

Ohio River Locks No. 53

Grand Chain Co: Pulaski IL 62941-9801

Landholding Agency: COE

Property Number: 31199010004

Status: Unutilized

Directions: Ohio River Locks and Dam No. 53 at Grand Chain

Comments: 900 sq. ft.; one floor wood frame; most recent use—residence

Bldg. 3

Ohio River Locks No. 53

Grand Chain Co: Pulaski IL 62941-9801

Landholding Agency: COE

Property Number: 31199010005

Status: Unutilized

Directions: Ohio River Locks and Dam No. 53 at Grand Chain

Comments: 900 sq. ft.; one floor wood frame

Suitable/Unavailable Properties

Building

Illinois

Bldg. 2

Ohio River Locks No. 53

Grand Chain Co: Pulaski IL 62941-9801

Landholding Agency: COE

Property Number: 31199010006

Status: Unutilized

Directions: Ohio River Locks and Dam No. 53 at Grand Chain

Comments: 900 sq. ft.; one floor wood frame; most recent use—residence

Bldg. 1

Ohio River Locks No. 53

Grand Chain Co: Pulaski IL 62941-9801

Landholding Agency: COE

Property Number: 31199010007

Status: Unutilized

Directions: Ohio River Locks and Dam No. 53 at Grand Chain

Comments: 900 sq. ft.; one floor wood frame; most recent use—residence

Ohio

Bldg.—Berlin Lake 7400 Bedell Road

Berlin Center Co: Mahoning OH 44401-9797

Landholding Agency: COE

Property Number: 31199640001

Status: Unutilized

Comments: 1420 sq. ft., 2-story brick w/garage and basement, most recent use—residential, secured w/alternate access

Suitable/Unavailable Properties

Building

Pennsylvania

Tract 403A

Grays Landing Lock Project

Greensboro Co: Greene PA 15338

Landholding Agency: COE

Property Number: 31199430021

Status: Unutilized Comments: 620 sq. ft., 2-story, needs repair, most recent use—residential, if used for habitation must be flood proofed or removed off-site

Tract 403B

Grays Landing Lock Project

Greensboro Co: Greene PA 15338

Landholding Agency: COE

Property Number: 31199430022

Status: Unutilized

Comments: 1600 sq. ft., 2-story, brick structure, needs repair, most recent use—residential, if used for habitation must be flood proofed or removed off-site

Tract 403C

Grays Landing Lock Project

Greensboro Co: Greene PA 15338

Landholding Agency: COE

Property Number: 31199430023

Status: Unutilized

Comments: 672 sq. ft., 2-story carriage house/stable barn type structure, needs repair, most recent use—storage/garage, if used for habitation must be flood proofed or removed

Suitable/Unavailable Properties

Building

Washington

22 Bldgs./Geiger Heights

Fairchild AFB

Spokane WA 99224

Landholding Agency: Air Force

Property Number: 18200420001

Status: Unutilized

Comments: 1625 sq. ft., possible asbestos/lead paint, most recent use—residential

Bldg. 404/Geiger Heights

Fairchild AFB

Spokane WA 99224

Landholding Agency: Air Force

Property Number: 18200420002

Status: Unutilized

Comments: 1996 sq. ft., possible asbestos/lead paint, most recent use—residential

11 Bldgs./Geiger Heights

Fairchild AFB

Spokane WA 99224

Landholding Agency: Air Force

Property Number: 18200420003

Status: Unutilized

Comments: 2134 sq. ft., possible asbestos/lead paint, most recent use—residential

Bldg. 297/Geiger Heights

Fairchild AFB

Spokane WA 99224

Landholding Agency: Air Force

Property Number: 18200420004

Status: Unutilized

Comments: 1425 sq. ft., possible asbestos/lead paint, most recent use—residential

Suitable/Unavailable Properties

Building

Washington

9 Bldgs./Geiger Heights

Fairchild AFB

Spokane WA 99224

Landholding Agency: Air Force

Property Number: 18200420005

Status: Unutilized

Comments: 1620 sq. ft., possible asbestos/lead paint, most recent use—residential

22 Bldgs./Geiger Heights

Fairchild AFB Spokane WA 99224

Landholding Agency: Air Force

Property Number: 18200420006

Status: Unutilized

Comments: 2850 sq. ft., possible asbestos/lead paint, most recent use—residential

51 Bldgs./Geiger Heights

Fairchild AFB

Spokane WA 99224

Landholding Agency: Air Force

Property Number: 18200420007

Status: Unutilized

Comments: 2574 sq. ft., possible asbestos/lead paint, most recent use—residential

Bldg. 402/Geiger Heights

Fairchild AFB

Spokane WA 99224

Landholding Agency: Air Force

Property Number: 18200420008

Status: Unutilized

Comments: 2451 sq. ft., possible asbestos/lead paint, most recent use—residential

Suitable/Unavailable Properties

Building

Washington

5 Bldgs./Geiger Heights

Fairchild AFB 222, 224, 271, 295, 260

Spokane WA 99224

Landholding Agency: Air Force

Property Number: 18200420009

Status: Unutilized

Comments: 3043 sq. ft., possible asbestos/lead paint, most recent use—residential

5 Bldgs./Geiger Heights

Fairchild AFB 102, 183, 118, 136, 113

Spokane WA 99224

Landholding Agency: Air Force

Property Number: 18200420010

Status: Unutilized

Comments: 2599 sq. ft., possible asbestos/lead paint, most recent use—residential

Land

Illinois

Lake Shelbyville

Shelbyville Co: Shelby IL 62565-9804

Landholding Agency: COE

Property Number: 31199240004

Status: Unutilized

Comments: 5 parcels of land equalling 0.70 acres, improved w/4 small equipment storage bldgs. and a small access road, easement restrictions

Suitable/Unavailable Properties

Land

Pennsylvania

East Branch Clarion River Lake

Wilcox Co: Elk PA

Landholding Agency: COE

Property Number: 31199011012

Status: Underutilized

Directions: Free camping area on the right bank off entrance roadway

Comments: 1 acre; most recent use—free campground

Dashields Locks and Dam (Glenwillard, PA)

Crescent Twp. Co: Allegheny PA 15046-0475

Landholding Agency: COE

Property Number: 31199210009

Status: Unutilized

Comments: 0.58 acres, most recent use—baseball field

South Dakota

Tract 133

Ellsworth AFB

Box Elder Co: Pennington SD 57706

Landholding Agency: Air Force

Property Number: 18200310004

Status: Unutilized

Comments: 53.23 acres

Tract 67

Ellsworth AFB

Box Elder Co: Pennington SD 57706

Landholding Agency: Air Force

Property Number: 18200310005

Status: Unutilized

Comments: 121 acres, bentonite layer in soil, causes movement

Suitable / Unavailable Properties Summary for Suitable / Unavailable Properties = Total number of Properties 144

Suitable/To be Excessed

Land

Georgia

Lake Sidney Lanier null Co: Forsyth GA 30130

Landholding Agency: COE

Property Number: 31199440010

Status: Unutilized

Directions: Located on Two Mile Creek adj. to State Route 369

Comments: 0.25 acres, endangered plant species

Lake Sidney Lanier—3 parcels

Gainesville Co: Hall GA 30503

Landholding Agency: COE

Property Number: 31199440011

Status: Unutilized

Directions: Between Gainesville H.S. and State Route 53 By-Pass

Comments: 3 parcels totalling 5.17 acres, most recent use—buffer zone, endangered plant species

Suitable/To be Excessed

Land

Kansas

Parcel #1

Fall River Lake

Section 26 null Co: Greenwood KS

Landholding Agency: COE

Property Number: 31199010065

Status: Unutilized

Comments: 126.69 acres; most recent use—recreation and leased cottage sites

Parcel No. 2, El Dorado Lake

Approx. 1 mi east of the town of El Dorado null Co: Butler KS

Landholding Agency: COE

Property Number: 31199210005

Status: Unutilized

Comments: 11 acres, part of a relocated railroad bed, rural area

Massachusetts

Buffumville Dam

Flood Control Project

Gale Road

Carlton Co: Worcester MA 01540-0155

Landholding Agency: COE

Property Number: 31199010016

Status: Excess

Directions: Portion of tracts B-200, B-248, B-251, B-204, B-247, B-200 and B-256

Comments: 1.45 acres.

Suitable/To be Excessed

Land

Tennessee

Tract D-456

Cheatham Lock and Dam

Ashland Co: Cheatham TN 37015

Landholding Agency: COE

Property Number: 31199010942

Status: Excess

Directions: Right downstream bank of Sycamore Creek.

Comments: 8.93 acres; subject to existing easements.

Texas

Corpus Christi Ship Channel

Corpus Christi Co: Neuces TX

Landholding Agency: COE

Property Number: 31199240001

Status: Unutilized

Directions: East side of Carbon Plant Road, approx. 14 miles NW of downtown Corpus Christi

Comments: 4.4 acres, most recent use—farm land.

Summary for Suitable/To be Excessed = Total number of Properties 7

Unsuitable Properties

Building

Alabama

Comfort Station

Clailborne Lake

Camden AL 36726

Landholding Agency: COE

Property Number: 31200540001

Status: Unutilized

Reasons: Extensive deterioration,

Pumphouse, Dannelly Reservoir

Camden AL 36726

Landholding Agency: COE

Property Number: 31200540002

Status: Unutilized

Reasons: Extensive deterioration

Alaska

Bldgs. 3270, 3274, 3278

Elmendorf AFB

Anchorage AK 99506

Landholding Agency: Air Force

Property Number: 18200630001

Status: Unutilized

Reasons: Secured Area

Within 2000 ft. of flammable or explosive material

Unsuitable Properties

Building

Arkansas

Dwelling

Bull Shoals Lake/Dry Run Road

Oakland Co: Marion AR 72661

Landholding Agency: COE

Property Number: 31199820001

Status: Unutilized

Reasons: Extensive deterioration

Helena Casting Plant

Helena Co: Phillips AR 72342

Landholding Agency: COE

Property Number: 31200220001

Status: Unutilized

Reasons: Extensive deterioration

BSHOAL-43560

Mountain Home Project

Mountain Home AR 72653

Landholding Agency: COE

Property Number: 31200630001

Status: Unutilized

Reasons: Extensive deterioration

BSHOAL-43561

Mountain Home Project

Mountain Home AR 72653

Landholding Agency: COE

Property Number: 31200630002

Status: Unutilized

Reasons: Extensive deterioration

Unsuitable Properties

Building

Arkansas

BSHOAL-43652

Mountain Home Project

Mountain Home AR 72653

Landholding Agency: COE

Property Number: 31200630003

Status: Unutilized

Reasons: Extensive deterioration

NRFORK-48769

Mountain Home Project

Mountain Home AR 72653

Landholding Agency: COE

Property Number: 31200630004

Status: Unutilized

Reasons: Extensive deterioration

Bldgs. 43336, 44910, 44949

Nimrod-Blue Mountain Project

Plainview AR 72858

Landholding Agency: COE

Property Number: 31200630005

Status: Unutilized

Reasons: Extensive deterioration

Bldgs. 44913, 44925

Nimrod-Blue Mountain Project

Plainview AR 72857

Landholding Agency: COE

Property Number: 31200630006

Status: Unutilized

Reasons: Extensive deterioration

Unsuitable Properties

Building

California

Bldgs. 5001 thru 5082

Edwards AFB

Area A

Los Angeles CA 93524

Landholding Agency: Air Force

Property Number: 18200620002

Status: Unutilized

Reasons: Secured Area, Extensive deterioration

Garages 25001 thru 25100

Edwards AFB

Area A

Los Angeles CA 93524

Landholding Agency: Air Force

Property Number: 18200620003

Status: Unutilized

Reasons: Extensive deterioration, Secured Area

Soil Testing Lab

Sausalito CA 00000

Landholding Agency: COE

Property Number: 31199920002

Status: Excess

Reasons: Other—contamination

Unsuitable Properties

Building

Connecticut

Hezekiah S. Ramsdell Farm

West Thompson Lake

North Grosvenordale Co: Windham CT 06255-9801

Landholding Agency: COE

Property Number: 31199740001

Status: Unutilized

Reasons: Extensive deterioration, Floodway

Florida

Bldgs. 2349, 2351

Tyndall AFB

Bay FL 32403

Landholding Agency: Air Force

Property Number: 18200640002

Status: Unutilized

Reasons: Within airport runway clear zone

Bldg. SF-15

Sub-Office Operations

Clewiston Co: Hendry FL 33440

Landholding Agency: COE

Property Number: 31200430003

Status: Unutilized

Reasons: Secured Area, Extensive deterioration

Bldg. SF-16

Sub-Office Operations

Clewiston Co: Hendry FL 33440

Landholding Agency: COE

Property Number: 31200430004

Status: Unutilized

Reasons: Secured Area

Unsuitable Properties

Building

Florida

Bldg. SF-17

Sub-Office Operations

Clewiston Co: Hendry FL 33440

Landholding Agency: COE

Property Number: 31200430005

Status: Unutilized

Reasons: Secured Area, Extensive deterioration

Bldg. SF-33

Franklin Lock

Alva Co: Lee FL 33920

Landholding Agency: COE

Property Number: 31200620008

Status: Unutilized

Reasons: Extensive deterioration

Bldg. 25

(f) Richmond Naval Air Station

15810 SW 129th Ave.

Miami Co: Dade FL 33177

Landholding Agency: COE

Property Number: 31200620031

Status: Excess

Reasons: Extensive deterioration

Bldg. SF-14

S. Florida Operations Ofc. Reservation

Clewiston Co: Hendry FL 33440

Landholding Agency: COE

Property Number: 31200710001

Status: Unutilized

Reasons: Secured Area

Unsuitable Properties

Building

Georgia

Facilities 284, 286, 288

Savannah HHIAP

Garden City Co: Chatham GA 31408

Landholding Agency: Air Force

Property Number: 18200710002

Status: Unutilized

Reasons: Secured Area

Facilities 1904, 1908

Savannah HHIAP

Garden City Co: Chatham GA 31408

Landholding Agency: Air Force

Property Number: 18200710003

Status: Unutilized

Reasons: Secured Area

Bldg. #WRSH18

West Point Lake

West Point GA 31833

Landholding Agency: COE

Property Number: 31200430006

Status: Unutilized

Reasons: Secured Area

Bldg. W03

West Point Lake

West Point GA 31833

Landholding Agency: COE

Property Number: 31200430007

Status: Unutilized

Reasons: Within 2000 ft. of flammable or explosive material, Secured Area, Extensive deterioration

Unsuitable Properties

Building

Georgia

Gatehouse #W03

West Point Lake

West Point GA 31833-9517

Landholding Agency: COE

Property Number: 31200510001

Status: Unutilized

Reasons: Extensive deterioration

WRSH14, WRSH15, WRSH18

West Point Lake

West Point GA 31833-9517

Landholding Agency: COE

Property Number: 31200510002

Status: Unutilized

Reasons: Extensive deterioration

Pumphouse

Carters Lake

Oakman GA 30732

Landholding Agency: COE

Property Number: 31200520002

Status: Unutilized

Reasons: Extensive deterioration

Vault Toilet

Lake Sidney Lanier

Buford GA 30518

Landholding Agency: COE

Property Number: 31200540003

Status: Unutilized

Reasons: Extensive deterioration

Unsuitable Properties

Building

Georgia

Bldg. RBR-19689

Di-Lane Plantation

Elberton GA 30635

Landholding Agency: COE

Property Number: 31200620001

Status: Unutilized

Reasons: Extensive deterioration

Bldg. RBR-19690

Di-Lane Plantation

Elberton GA 30635

Landholding Agency: COE

Property Number: 31200620002

Status: Unutilized

Reasons: Extensive deterioration

Bldg. RBR-19696

Di-Lane Plantation

Elberton GA 30635

Landholding Agency: COE

Property Number: 31200620003

Status: Unutilized

Reasons: Extensive deterioration

Bldg. RBR-19697

Di-Lane Plantation

Elberton GA 30635

Landholding Agency: COE

Property Number: 31200620004

Status: Unutilized

Reasons: Extensive deterioration

Unsuitable Properties

Building

Georgia

Bldg. RBR-19705

Di-Lane Plantation

Elberton GA 30635

Landholding Agency: COE

Property Number: 31200620005

Status: Unutilized

Reasons: Extensive deterioration

Bldg. RBR-19706

Di-Lane Plantation

Elberton GA 30635

Landholding Agency: COE

Property Number: 31200620006

Status: Unutilized

Reasons: Extensive deterioration

Bldg. RBR-19721

Di-Lane Plantation

Elberton GA 30635

Landholding Agency: COE

Property Number: 31200620007

Status: Unutilized

Reasons: Extensive deterioration

Bldg. WC-19

Walter F. George Lake

Fort Gaines GA 39851

Landholding Agency: COE

Property Number: 31200630007

Status: Unutilized

Reasons: Extensive deterioration

Unsuitable Properties

Building

Georgia

Radio Room

Walter F. George Lake

Ft. Gaines GA 39851

Landholding Agency: COE

Property Number: 31200640004

Status: Unutilized

Reasons: Extensive deterioration

Bldg. JST-16711

Hesters Ferry Campground

Lincoln GA

Landholding Agency: COE

Property Number: 31200710002

Status: Unutilized

Reasons: Extensive deterioration

Bldg. JST-20852

Clay Hill Campground

Lincoln GA

Landholding Agency: COE

Property Number: 31200710003

Status: Unutilized

Reasons: Extensive deterioration

Unsuitable Properties

Building

Hawaii

Bldgs. 31, 33

Hickman Petro Products Storage Annex

Wheeler HI

Landholding Agency: Air Force

Property Number: 18200710004

Status: Unutilized

Reasons: Extensive deterioration, Secured Area

Bldgs. 35, 36, 37

Hickman Petro Products Storage Annex

Wheeler HI

Landholding Agency: Air Force

Property Number: 18200710005

Status: Unutilized

Reasons: Secured Area, Extensive deterioration

Bldgs. 41, 101

Hickman Petro Products Storage Annex

Wheeler HI

Landholding Agency: Air Force

Property Number: 18200710006

Status: Unutilized

Reasons: Secured Area, Extensive deterioration

Unsuitable Properties

Building

Idaho

Bldg. AFD0070

Albeni Falls Dam

Oldtown Co: Bonner ID 83822

Landholding Agency: COE

Property Number: 31199910001

Status: Unutilized

Reasons: Extensive deterioration

Illinois

Bldg. CB562-7141

Wilborn Creek

Shelbyville IL 62565

Landholding Agency: COE

Property Number: 31200620009

Status: Excess

Reasons: Extensive deterioration

Bldg. CB562-7153

Wilborn Creek

Shelbyville IL 62565

Landholding Agency: COE

Property Number: 31200620010

Status: Excess

Reasons: Extensive deterioration

Bldg. CB562-7162

Bo Wood

Shelbyville IL 62565

Landholding Agency: COE

Property Number: 31200620011

Status: Excess

Reasons: Extensive deterioration

Unsuitable Properties

Building

Illinois

Bldg. CB562-7163

Bo Wood

Shelbyville IL 62565

Landholding Agency: COE

Property Number: 31200620012

Status: Excess

Reasons: Extensive deterioration

Bldg. CB562-7164

Bo Wood

Shelbyville IL 62565

Landholding Agency: COE

Property Number: 31200620013

Status: Excess

Reasons: Extensive deterioration

Bldg. CB562-7165

Bo Wood

Shelbyville IL 62565

Landholding Agency: COE

Property Number: 31200620014

Status: Excess

Reasons: Extensive deterioration

Bldg. CB562-7196

Whitley Creek

Shelbyville IL 62565

Landholding Agency: COE

Property Number: 31200620015

Status: Excess

Reasons: Extensive deterioration

Unsuitable Properties

Building

Illinois

Bldg. CB562-7197

Whitley Creek

Shelbyville IL 62565

Landholding Agency: COE

Property Number: 31200620016

Status: Excess

Reasons: Extensive deterioration

Bldg. CB562-7199

Whitley Creek

Shelbyville IL 62565

Landholding Agency: COE

Property Number: 31200620017

Status: Excess

Reasons: Extensive deterioration

Bldg. CB562-7200

Whitley Creek

Shelbyville IL 62565

Landholding Agency: COE

Property Number: 31200620018

Status: Excess

Reasons: Extensive deterioration

Bldg. CB562-9042

Whitley Creek

Shelbyville IL 62565

Landholding Agency: COE

Property Number: 31200620019

Status: Excess

Reasons: Extensive deterioration

Unsuitable Properties

Building

Illinois

Bldg. CB639-7876

Rend Lake

Benton IL 62812

Landholding Agency: COE

Property Number: 31200620020

Status: Excess

Reasons: Extensive deterioration

Fee Booth

Bo Wood Recreation Area

Shelbyville IL 62565

Landholding Agency: COE

Property Number: 31200630008

Status: Unutilized

Reasons: Extensive deterioration

Comfort Station

Rend Lake

Benton IL 62812

Landholding Agency: COE

Property Number: 31200710004

Status: Excess

Reasons: Extensive deterioration

Unsuitable Properties

Building

Indiana

Comfort Station

Salamonie Lake

Lagro IN 46941

Landholding Agency: COE

Property Number: 31200540004

Status: Unutilized

Reasons: Extensive deterioration

Sewage Treatment Plant

Mississinewa Lake

Peru IN 46970

Landholding Agency: COE

Property Number: 31200540005

Status: Unutilized

Reasons: Extensive deterioration

Frame House

Brookville Lake

Union IN

Landholding Agency: COE

Property Number: 31200710005

Status: Unutilized

Reasons: Extensive deterioration

Unsuitable Properties

Building

Iowa

Treatment Plant

South Fork Park

Mystic Co: Appanoose IA 52574

Landholding Agency: COE

Property Number: 31200220002

Status: Excess

Reasons: Extensive deterioration

Storage Bldg.

Rathbun Project

Moravia Co: Appanoose IA 52571

Landholding Agency: COE

Property Number: 31200330001

Status: Excess

Reasons: Extensive deterioration

Bldg.

Island View Park

Rathbun Project

Centerville Co: Appanoose IA 52544

Landholding Agency: COE

Property Number: 31200330002

Status: Excess

Reasons: Extensive deterioration

Tract 137

Camp Dodge

Johnston Co: Polk IA 50131-1902

Landholding Agency: COE

Property Number: 31200410001

Status: Excess

Reasons: Extensive deterioration

Unsuitable Properties

Building

Iowa

Rathbun 29369, 29368

Island View park

Centerville Co: Appanoose IA 52544

Landholding Agency: COE

Property Number: 31200510003

Status: Excess

Reasons: Extensive deterioration

RTHBUN-79326

Buck Creek Park

Centerville Co: Appanoose IA 52544

Landholding Agency: COE

Property Number: 31200520004

Status: Excess

Reasons: Extensive deterioration

Bldg.

Buck Creek Park

Centerville Co: Appanoose IA 52544

Landholding Agency: COE

Property Number: 31200610001

Status: Excess

Reasons: Extensive deterioration

Unsuitable Properties

Building

Kansas

Bldgs. 2031, 2029, 2025, 2023

McConnell AFB

Sedgwick KS 67210

Landholding Agency: Air Force

Property Number: 18200630003

Status: Unutilized

Reasons: Secured Area

Bldgs. 2033, 2018, 2016

McConnell AFB

Sedgwick KS 67210

Landholding Agency: Air Force

Property Number: 18200630004

Status: Unutilized

Reasons: Secured Area

Bldgs. 2039, 2036

McConnell AFB

Sedgwick KS 67210

Landholding Agency: Air Force

Property Number: 18200630005

Status: Unutilized

Reasons: Secured Area

Bldgs. 2041, 2027, 2021

McConnell AFB

Sedgwick KS 67210

Landholding Agency: Air Force

Property Number: 18200630006

Status: Unutilized

Reasons: Secured Area

Unsuitable Properties

Building

Kansas

Bldg. 2507

McConnell AFB

Sedgwick KS 67210

Landholding Agency: Air Force

Property Number: 18200630007

Status: Unutilized

Reasons: Secured Area

22 Duplexes

McConnell AFB

Sedgwick KS 67210

Landholding Agency: Air Force

Property Number: 18200640004

Status: Excess

Reasons: Secured Area

5 Duplexes

McConnell AFB

Sedgwick KS 67210

Landholding Agency: Air Force

Property Number: 18200640005

Status: Excess

Directions: 2009, 2224, 2312, 2315, 2357

Reasons: Secured Area

Bldgs. 2131, 2133

McConnell AFB

Sedgwick KS 67210

Landholding Agency: Air Force

Property Number: 18200640006

Status: Excess

Reasons: Secured Area

Unsuitable Properties

Building

Kansas

Bldgs. 2201, 2301

McConnell AFB

Sedgwick KS 67210

Landholding Agency: Air Force

Property Number: 18200640007

Status: Excess

Reasons: Secured Area

15 Single Units

McConnell AFB

Sedgwick KS 67210

Landholding Agency: Air Force

Property Number: 18200640008

Status: Excess

Reasons: Secured Area

No. 01017

Kanopolis Project

Marquette Co: Ellsworth KS 67456

Landholding Agency: COE

Property Number: 31200210001

Status: Unutilized

Reasons: Extensive deterioration

No. 01020

Kanopolis Project

Marquette Co: Ellsworth KS 67456

Landholding Agency: COE

Property Number: 31200210002

Status: Unutilized

Reasons: Extensive deterioration

Unsuitable Properties

Building

Kansas

No. 61001

Kanopolis Project

Marquette Co: Ellsworth KS 67456

Landholding Agency: COE

Property Number: 31200210003

Status: Unutilized

Reasons: Extensive deterioration

Bldg. #1

Kanopolis Project

Marquette Co: Ellsworth KS 67456

Landholding Agency: COE

Property Number: 31200220003

Status: Excess

Reasons: Extensive deterioration

Bldg. #2

Kanopolis Project

Marquette Co: Ellsworth KS 67456

Landholding Agency: COE

Property Number: 31200220004

Status: Excess

Reasons: Extensive deterioration

Bldg. #4

Kanopolis Project

Marquette Co: Ellsworth KS 67456

Landholding Agency: COE

Property Number: 31200220005

Status: Excess

Reasons: Extensive deterioration

Unsuitable Properties

Building

Kansas

Comfort Station

Clinton Lake Project

Lawrence Co: Douglas KS 66049

Landholding Agency: COE

Property Number: 31200220006

Status: Excess

Reasons: Extensive deterioration

Privie

Perry Lake

Perry Co: Jefferson KS 66074

Landholding Agency: COE

Property Number: 31200310004

Status: Unutilized

Reasons: Extensive deterioration

Shower

Perry Lake

Perry Co: Jefferson KS 66073

Landholding Agency: COE

Property Number: 31200310005

Status: Unutilized

Reasons: Extensive deterioration

Tool Shed

Perry Lake

Perry Co: Jefferson KS 66073

Landholding Agency: COE

Property Number: 31200310006

Status: Unutilized

Reasons: Extensive deterioration

Unsuitable Properties

Building

Kansas

Bldg. M37

Minooka Park

Sylvan Grove Co: Russell KS 67481

Landholding Agency: COE

Property Number: 31200320002

Status: Excess Reasons: Extensive deterioration

Bldg. M38

Minooka Park

Sylvan Grove Co: Russell KS 67481

Landholding Agency: COE

Property Number: 31200320003

Status: Excess

Reasons: Extensive deterioration

Bldg. L19

Lucas Park

Sylvan Grove Co: Russell KS 67481

Landholding Agency: COE

Property Number: 31200320004

Status: Unutilized

Reasons: Extensive deterioration

2 Bldgs.

Tuttle Creek Lake

Near Shelters #3 & #4

Riley KS 66502

Landholding Agency: COE

Property Number: 31200330003

Status: Excess

Reasons: Extensive deterioration

Unsuitable Properties

Building

Kansas

6 Bldgs.

Cottonwood Point/Hillsboro Cove

Marion Co: Coffey KS 66861

Landholding Agency: COE

Property Number: 31200340001

Status: Excess

Reasons: Extensive deterioration

20 Bldgs.

Riverside

Burlington Co: Coffey KS 66839-8911

Landholding Agency: COE

Property Number: 31200340002

Status: Excess

Reasons: Extensive deterioration

2 Bldgs.

Canning Creek/Richey Cove

Council Grove Co: Morris KS 66846-9322

Landholding Agency: COE

Property Number: 31200340003

Status: Excess

Reasons: Extensive deterioration

6 Bldgs.

Santa Fe Trail/Outlet Channel

Council Grove Co: Morris KS 66846

Landholding Agency: COE

Property Number: 31200340004

Status: Excess

Reasons: Extensive deterioration

Unsuitable Properties

Building

Kansas

Residence

Melvern Lake Project

Melvern Co: Osage KS 66510

Landholding Agency: COE

Property Number: 31200340005

Status: Excess

Reasons: Extensive deterioration

2 Bldgs.

Management Park

Vassar KS 66543

Landholding Agency: COE

Property Number: 31200340006

Status: Excess

Reasons: Extensive deterioration

Bldg.

Hickory Campground

Lawrence KS 66049

Landholding Agency: COE

Property Number: 31200340007

Status: Excess

Reasons: Extensive deterioration

Bldg.

Rockhaven Park Area

Lawrence KS 66049

Landholding Agency: COE

Property Number: 31200340008

Status: Excess

Reasons: Extensive deterioration

Unsuitable Properties

Building

Kansas

Bldg.

Overlook Park Area

Lawrence KS 66049

Landholding Agency: COE

Property Number: 31200340009

Status: Excess

Reasons: Extensive deterioration

Bldg.

Walnut Campground

Lawrence KS 66049

Landholding Agency: COE

Property Number: 31200340010

Status: Excess

Reasons: Extensive deterioration

Bldg.

Cedar Ridge Campground

Lawrence KS 66049

Landholding Agency: COE

Property Number: 31200340011

Status: Excess

Reasons: Extensive deterioration

Bldg.

Woodridge Park Area

Lawrence KS 66049

Landholding Agency: COE

Property Number: 31200340012

Status: Excess

Reasons: Extensive deterioration

Unsuitable Properties

Building

Kansas

8 Bldgs.

Tuttle Cove Park

Manhattan Co: Riley KS 66502

Landholding Agency: COE

Property Number: 31200410002

Status: Unutilized

Reasons: Extensive deterioration

2 Bldgs.

Old Garrison Campground

Pottawatomie KS

Landholding Agency: COE

Property Number: 31200410003

Status: Unutilized

Reasons: Extensive deterioration

2 Bldgs.

School Creek ORV Area

Junction City KS 66441

Landholding Agency: COE

Property Number: 31200410004

Status: Excess

Reasons: Extensive deterioration

Bldg.

Slough Creek Park

Perry Co: Jefferson KS 66073

Landholding Agency: COE

Property Number: 31200410005

Status: Excess

Reasons: Extensive deterioration

Unsuitable Properties

Building

Kansas

Bldg.

Spillway Boat Ramp

Sylvan Grove KS 67481

Landholding Agency: COE

Property Number: 31200430008

Status: Excess

Reasons: Extensive deterioration

Bldg.

Minooka Park Area

Sylvan Grove KS 67481

Landholding Agency: COE

Property Number: 31200430009

Status: Excess

Reasons: Extensive deterioration

Bldg.

Lucas Park Area

Sylvan Grove KS 67481

Landholding Agency: COE

Property Number: 31200430010

Status: Excess

Reasons: Extensive deterioration

Bldg.

Sylvan Park Area

Sylvan Grove KS 67481

Landholding Agency: COE

Property Number: 31200430011

Status: Excess

Reasons: Extensive deterioration

Unsuitable Properties

Building

Kansas

Bldg.

North Outlet Area

Junction City KS 66441

Landholding Agency: COE

Property Number: 31200430012

Status: Excess

Reasons:

Extensive deterioration

3 Vault Toilets

West Rolling Hills

Milford Lake

Junction City KS 66441

Landholding Agency: COE

Property Number: 31200440003

Status: Excess

Reasons: Extensive deterioration

Vault Toilet

East Rolling Hills

Milford Lake

Junction City KS 66441

Landholding Agency: COE

Property Number: 31200440004

Status: Excess

Reasons: Extensive deterioration

Bldgs. 25002, 35012

Lucas Park

Sylvan Grove KS 67481

Landholding Agency: COE

Property Number: 31200510004

Status: Excess

Reasons: Extensive deterioration

Unsuitable Properties

Building

Kansas

Bldgs. 25006, 25038

Lucas Group Camp

Sylvan Grove KS 67481

Landholding Agency: COE

Property Number: 31200510005

Status: Excess

Reasons: Extensive deterioration

Bldgs. L37, L38

Lucas Park

Sylvan Grove KS 67481

Landholding Agency: COE

Property Number: 31200520005

Status: Excess

Reasons: Extensive deterioration

2 Bldgs.

Mann's Cove PUA

Fall River Co: Greenwood KS 67047

Landholding Agency: COE

Property Number: 31200530002

Status: Excess

Reasons: Extensive deterioration

16 Bldgs.

Cottonwood Point

Marion KS

Landholding Agency: COE

Property Number: 31200530003

Status: Excess

Reasons: Extensive deterioration

Unsuitable Properties

Building

Kansas

3 Bldgs.

Damsite PUA

Fall River Co: Greenwood KS 67047

Landholding Agency: COE

Property Number: 31200530004

Status: Excess

Reasons: Extensive deterioration

2 Bldgs.

Damsite PUA

Fall River Co: Greenwood KS 6047

Landholding Agency: COE

Property Number: 31200530005

Status: Excess

Reasons: Extensive deterioration

Bldgs. L05, L06

Lucas Park Overlook

Sylvan Grove KS 67481

Landholding Agency: COE

Property Number: 31200530006

Status: Excess

Reasons: Extensive deterioration

Bldg. 29442

Admin. Area

Perry KS 66073

Landholding Agency: COE

Property Number: 31200610002

Status: Excess

Reasons: Extensive deterioration

Unsuitable Properties

Building

Kansas

Bldgs. 29475, 29476

Thompsonville Park

Perry KS 66073

Landholding Agency: COE

Property Number: 31200610003

Status: Excess

Reasons: Extensive deterioration

Bldg. 39661

Old Town Park

Perry KS 66073

Landholding Agency: COE

Property Number: 31200610004

Status: Excess

Reasons: Extensive deterioration

Bldg. 29455

Rock Creek Park

Perry KS 66073

Landholding Agency: COE

Property Number: 31200610005

Status: Excess

Reasons: Extensive deterioration

Bldg. 29415

Longview Park

Perry KS 66073

Landholding Agency: COE

Property Number: 31200610006

Status: Excess

Reasons: Extensive deterioration

Unsuitable Properties

Building

Kansas

Bldg. 29464

Slough Creek Park

Perry KS 66073

Landholding Agency: COE

Property Number: 31200610007

Status: Excess

Reasons: Extensive deterioration

Bldgs. 35015, 35011

Minooka Park

Sylvan Grove KS 67481

Landholding Agency: COE

Property Number: 31200620021

Status: Excess

Reasons: Extensive deterioration

Bldgs.

Canning Creek

Council Grove Co: Morris KS 66846

Landholding Agency: COE

Property Number: 31200620022

Status: Excess

Reasons: Extensive deterioration

4 Bldgs.

East Rolling Hills Park

Junction City KS 66441

Landholding Agency: COE

Property Number: 31200630009

Status: Unutilized

Reasons: Extensive deterioration

Unsuitable Properties

Building

Kansas

Storage Bldg.

Perry Wildlife Area

Perry KS 66073

Landholding Agency: COE

Property Number: 31200640005

Status: Excess

Reasons: Extensive deterioration

Water Treatment Plant

Old Town Area

Perry KS 66073

Landholding Agency: COE

Property Number: 31200640006

Status: Excess

Reasons: Extensive deterioration

Water Treatment Plant

Sunset Ridge Area

Perry KS 66073

Landholding Agency: COE

Property Number: 31200640007

Status: Excess

Reasons: Extensive deterioration

Water Treatment Plant

Perry Area

Perry KS 66073

Landholding Agency: COE

Property Number: 31200640008

Status: Excess

Reasons: Extensive deterioration

Unsuitable Properties

Building

Kansas

Water Treatment Plant

Longview Park Area

Perry KS 66073

Landholding Agency: COE

Property Number: 31200640009

Status: Excess

Reasons: Extensive deterioration

Shower

Longview Park Area

Perry KS 66073

Landholding Agency: COE

Property Number: 31200640010

Status: Excess

Reasons: Extensive deterioration

Shower

Slough Creek Park Area

Perry KS 66073

Landholding Agency: COE

Property Number: 31200640011

Status: Excess

Reasons: Extensive deterioration

Shower

Thompsonville Area

Perry KS 66073

Landholding Agency: COE

Property Number: 31200640012

Status: Excess

Reasons: Extensive deterioration

Unsuitable Properties

Building

Kansas

Bldgs. 28370, 28373, 28298

Melvern Lake

Melvern Co: Osage KS 66510

Landholding Agency: COE

Property Number: 31200710006

Status: Excess

Reasons: Extensive deterioration

Bldg. 29773

Melvern Lake

Melvern Co: Osage KS 66510

Landholding Agency: COE

Property Number: 31200710007

Status: Excess

Reasons: Extensive deterioration

Bldgs. 29785, 29786, 29788

Melvern Lake

Melvern Co: Osage KS 66510

Landholding Agency: COE

Property Number: 31200710008

Status: Excess

Reasons: Extensive deterioration

Bldg. 39070

Melvern Lake

Melvern Co: Osage KS 66510

Landholding Agency: COE

Property Number: 31200710009

Status: Excess

Reasons: Extensive deterioration

Unsuitable Properties

Building

Kansas

Bldg.

South Outlet Park Area

Lawrence KS

Landholding Agency: COE

Property Number: 31200710010

Status: Excess

Reasons: Extensive deterioration

Kentucky

Spring House

Kentucky River Lock and Dam No. 1

Highway 320

Carrollton Co: Carroll KY 41008

Landholding Agency: COE

Property Number: 21199040416

Status: Unutilized

Reasons: Other—Spring House

6-Room Dwelling

Green River Lock and Dam No. 3

Rochester Co: Butler KY 42273

Landholding Agency: COE

Property Number: 31199120010

Status: Unutilized

Directions: Off State Hwy 369, which runs off of Western Ky. Parkway

Reasons: Floodway

Unsuitable Properties

Building

Kentucky

2-Car Garage

Green River Lock and Dam No. 3

Rochester Co: Butler KY 42273

Landholding Agency: COE

Property Number: 31199120011

Status: Unutilized

Directions: Off State Hwy 369, which runs off of Western Ky. Parkway

Reasons: Floodway

Office and Warehouse

Green River Lock and Dam No. 3

Rochester Co: Butler KY 42273

Landholding Agency: COE

Property Number: 31199120012

Status: Unutilized

Directions: Off State Hwy 369, which runs off of Western Ky. Parkway

Reasons: Floodway

2 Pit Toilets

Green River Lock and Dam No. 3

Rochester Co: Butler KY 42273

Landholding Agency: COE

Property Number: 31199120013

Status: Unutilized

Reasons: Floodway

Tract 1379

Barkley Lake

Eddyville Co: Lyon KY 42038

Landholding Agency: COE

Property Number: 31200420001

Status: Unutilized

Reasons: Other—landlocked

Unsuitable Properties

Building

Kentucky

Tract 4300

Barkley Lake

Cadiz Co: Trigg KY 42211

Landholding Agency: COE

Property Number: 31200420002

Status: Unutilized

Reasons: Floodway

Tracts 317, 318, 319

Barkley Lake

Grand Rivers Co: Lyon KY 42045

Landholding Agency: COE

Property Number: 31200420003

Status: Unutilized

Reasons: Floodway

Comfort Station

Holmes Bend Access

Green River Lake

Adair KY

Landholding Agency: COE

Property Number: 31200440005

Status: Excess

Reasons: Extensive deterioration

Steel Structure

Mcalpine Locks

Louisville KY 40212

Landholding Agency: COE

Property Number: 31200440006

Status: Excess

Reasons: Floodway, Within 2000 ft. of flammable or explosive material

Unsuitable Properties

Building

Kentucky

Comfort Station

Mcalpine Locks

Louisville KY 40212

Landholding Agency: COE

Property Number: 31200440007

Status: Excess

Reasons: Floodway, Within 2000 ft. of flammable or explosive material

Shelter

Mcalpine Locks

Louisville KY 40212

Landholding Agency: COE

Property Number: 31200440008

Status: Excess

Reasons: Floodway, Within 2000 ft. of flammable or explosive material

Parking Lot

Mcalpine Locks

Louisville KY 40212

Landholding Agency: COE

Property Number: 31200440009

Status: Excess

Reasons: Floodway, Within 2000 ft. of flammable or explosive material

Sewage Treatment Plant

Holmes Bend Recreation

Campbellsville KY 42718-9805

Landholding Agency: COE

Property Number: 31200510006

Status: Unutilized

Reasons: Extensive deterioration

Unsuitable Properties

Building

Kentucky

Loading Docks

Nolin Lake

Bee Spring KY 42007

Landholding Agency: COE

Property Number: 31200540006

Status: Unutilized

Reasons: Extensive deterioration

Maine

Bldg. 425

Bangor IAP

Bangor ME 04401

Landholding Agency: Air Force

Property Number: 18200710007

Status: Unutilized

Reasons: Secured Area, Within 2000 ft. of flammable or explosive material

Missouri

Rec Office

Harry S. Truman Dam

Osceola Co: St. Clair MO 64776

Landholding Agency: COE

Property Number: 31200110001

Status: Unutilized

Reasons: Extensive deterioration

Unsuitable Properties

Building

Missouri

Privy/Nemo Park

Pomme de Terre Lake

Hermitage MO 65668

Landholding Agency: COE

Property Number: 31200120001

Status: Excess

Reasons: Extensive deterioration

Privy No. 1/Bolivar Park

Pomme de Terre Lake

Hermitage MO 65668

Landholding Agency: COE

Property Number: 31200120002

Status: Excess

Reasons: Extensive deterioration

Privy No. 2/Bolivar Park

Pomme de Terre Lake

Hermitage MO 65668

Landholding Agency: COE

Property Number: 31200120003

Status: Excess

Reasons: Extensive deterioration

#07004, 60006, 60007

Crabtree Cove/Stockton Area

Stockton MO 65785

Landholding Agency: COE

Property Number: 31200220007

Status: Excess

Reasons: Extensive deterioration

Unsuitable Properties

Building

Missouri

Bldg.

Old Mill Park Area

Stockton MO 65785

Landholding Agency: COE

Property Number: 31200310007

Status: Excess

Reasons: Extensive deterioration

Stockton Lake Proj. Ofc.

Stockton Co: Cedar MO 65785

Landholding Agency: COE

Property Number: 31200330004

Status: Unutilized

Reasons: Extensive deterioration

House

Tract 1105

Thurnau Mitigation Site

Craig Co: Holt MO 64437

Landholding Agency: COE

Property Number: 31200420005

Status: Unutilized

Reasons: Extensive deterioration

30x36 Barn

Tract 1105

Thurnau Mitigation Site

Craig Co: Holt MO 64437

Landholding Agency: COE

Property Number: 31200420006

Status: Unutilized

Reasons: Extensive deterioration

Unsuitable Properties

Building

Missouri

30x26 Barn

Tract 1105

Thurnau Mitigation Site

Craig Co: Holt MO 64437

Landholding Agency: COE

Property Number: 31200420007

Status: Unutilized

Reasons: Extensive deterioration

30x10 Shed

Tract 1105

Thurnau Mitigation Site

Craig Co: Holt MO 64437

Landholding Agency: COE

Property Number: 31200420008

Status: Unutilized

Reasons: Extensive deterioration

30x26 Shed

Tract 1105

Thurnau Mitigation Site

Craig Co: Holt MO 64437

Landholding Agency: COE

Property Number: 31200420009

Status: Unutilized

Reasons: Extensive deterioration

9x9 Shed

Tract 1105

Thurnau Mitigation Site

Craig Co: Holt MO 64437

Landholding Agency: COE

Property Number: 31200420010

Status: Unutilized

Reasons: Extensive deterioration

Unsuitable Properties

Building

Missouri

Tract 1111

Thurnau Mitigation Site

Craig Co: Holt MO 64437

Landholding Agency: COE

Property Number: 31200420011

Status: Excess

Reasons: Extensive deterioration

Shower

Pomme de Terre Lake

Hermitage Co: Polk MO 65668

Landholding Agency: COE

Property Number: 31200420012

Status: Unutilized

Reasons: Extensive deterioration

11 Bldgs.

Warsaw MO 65355

Landholding Agency: COE

Property Number: 31200430013

Status: Excess

Directions: Fairfield, Tally Bend, Cooper Creek, Shawnee Bend

Reasons: Extensive deterioration

2 Storage Bldgs.

District Service Base

St. Louis MO

Landholding Agency: COE

Property Number: 31200430014

Status: Excess

Reasons: Extensive deterioration

Unsuitable Properties

Building

Missouri

Privy

Pomme de Terre Lake

Wheatland Co: Hickory MO

Landholding Agency: COE

Property Number: 31200440010

Status: Underutilized

Reasons: Floodway

Vault Toilet

Ruark Bluff

Stockton MO

Landholding Agency: COE

Property Number: 31200440011

Status: Excess

Reasons: Extensive deterioration

Comfort Station

Overlook Area

Stockton MO

Landholding Agency: COE

Property Number: 31200440012

Status: Excess

Reasons: Extensive deterioration

Maintenance Building

Missouri River Area

Napoleon Co: Lafayette MO 64074

Landholding Agency: COE

Property Number: 31200510007

Status: Excess

Reasons: Floodway

Unsuitable Properties

Building

Missouri

Bldg. 34001

Orleans Trail Park

Stockton MO 65785

Landholding Agency: COE

Property Number: 31200510008

Status: Excess

Reasons: Extensive deterioration

Bldgs. 34016, 34017

Orleans Trail Park

Stockton MO 65785

Landholding Agency: COE

Property Number: 31200510009

Status: Excess

Reasons: Extensive deterioration

Bldg.

Pomme de Terre Lake

Hermitage MO 65668

Landholding Agency: COE

Property Number: 31200610008

Status: Unutilized

Reasons: Extensive deterioration

Bldgs. 43841, 43919

Clearwater Project

Piedmont MO 63957

Landholding Agency: COE

Property Number: 31200630010

Status: Unutilized

Reasons: Extensive deterioration

Unsuitable Properties

Building

Missouri

Dwelling

Harry S. Truman Project

Roscoe MO

Landholding Agency: COE

Property Number: 31200640013

Status: Unutilized

Reasons: Extensive deterioration

Bldg. 50005

Ruark Bluff East

Stockton MO 65785

Landholding Agency: COE

Property Number: 31200710011

Status: Excess

Reasons: Extensive deterioration

Bldg. 07002

Crabtree Cove Park

Stockton MO 65785

Landholding Agency: COE

Property Number: 31200710012

Status: Excess

Reasons: Extensive deterioration

Comfort Station

Riverlands Way Access

West Alton MO 63386

Landholding Agency: COE

Property Number: 31200710013

Status: Excess

Reasons: Extensive deterioration

Unsuitable Properties

Building

Montana

Bldg. 1708

Malmstrom AFB

Cascade MT 59402

Landholding Agency: Air Force

Property Number: 18200610007

Status: Unutilized

Reasons: Secured Area, Within 2000 ft. of flammable or explosive material

Bldg. 360

Malmstrom AFB

Cascade MT 59402

Landholding Agency: Air Force

Property Number: 18200640010

Status: Unutilized

Reasons: Within 2000 ft. of flammable or explosive material, Secured Area

Nebraska

Vault Toilets

Harlan County Project

Republican NE 68971

Landholding Agency: COE

Property Number: 31200210006

Status: Unutilized

Reasons: Extensive deterioration

Patterson Treatment Plant

Harlan County Project

Republican NE 68971

Landholding Agency: COE

Property Number: 31200210007

Status: Unutilized

Reasons: Extensive deterioration

Unsuitable Properties

Building

Nebraska

#30004

Harlan County Project

Republican Co: Harlan NE 68971

Landholding Agency: COE

Property Number: 31200220008

Status: Unutilized

Reasons: Extensive deterioration

#3005, 3006

Harlan County Project

Republican Co: Harlan NE 68971

Landholding Agency: COE

Property Number: 31200220009

Status: Unutilized

Reasons: Extensive deterioration

Bldgs. 70001, 70002

South Outlet Park

Republican City NE

Landholding Agency: COE

Property Number: 31200510010

Status: Excess

Reasons: Extensive deterioration

Bldgs. 40002, 40003, 40006

Harlan County Lake

Republican City NE 68971

Landholding Agency: COE

Property Number: 31200610009

Status: Excess

Reasons: Extensive deterioration

Unsuitable Properties

Building

Nebraska

Bldg. 40020

Harlan County Lake

Republican City NE 68971

Landholding Agency: COE

Property Number: 31200610010

Status: Excess

Reasons: Extensive deterioration

4 Bldgs.

43004, 43007, 43008, 43009

Republican City NE 68971

Landholding Agency: COE

Property Number: 31200610011

Status: Excess

Reasons: Extensive deterioration

6 Bldgs.

Harlan County Lake

Republican City NE 68971

Landholding Agency: COE

Property Number: 31200610012

Status: Excess

Directions: 50003, 50004, 50005, 50006, 50007, 50008

Reasons: Extensive deterioration

Unsuitable Properties

Building

New Mexico

Bldgs. 15000, 15010, 15020

Cannon AFB

Curry NM 88101

Landholding Agency: Air Force

Property Number: 18200630009

Status: Unutilized

Reasons: Secured Area

Bldgs. 15030, 15040, 15060

Cannon AFB

Curry NM 88101

Landholding Agency: Air Force

Property Number: 18200630010

Status: Unutilized

Reasons: Secured Area

Bldgs. 15070, 15080, 15090

Cannon AFB

Curry NM 88101

Landholding Agency: Air Force

Property Number: 18200630011

Status: Unutilized

Reasons: Secured Area

Bldgs. 00, 10, 20

Cannon AFB

Curry NM 88101

Landholding Agency: Air Force

Property Number: 18200630012

Status: Unutilized

Reasons: Secured Area 95

Unsuitable Properties

Building

New Mexico

Bldgs. 30, 40, 60

Cannon AFB

Curry NM 88101

Landholding Agency: Air Force

Property Number: 18200630013

Status: Unutilized

Reasons: Secured Area

Bldgs. 70, 80, 90

Cannon AFB

Curry NM 88101

Landholding Agency: Air Force

Property Number: 18200630014

Status: Unutilized

Reasons: Secured Area

Bldgs. 15200, 15210, 15220

Cannon AFB

Curry NM 88101

Landholding Agency: Air Force

Property Number: 18200630015

Status: Unutilized

Reasons: Secured Area

Bldgs. 15230, 15240, 15250

Cannon AFB

Curry NM 88101

Landholding Agency: Air Force

Property Number: 18200630016

Status: Unutilized

Reasons: Secured Area

Unsuitable Properties

Building

New Mexico

4 Bldgs.

Cannon AFB 15260, 15270, 15280, 15290

Curry NM 88101

Landholding Agency: Air Force

Property Number: 18200630017

Status: Unutilized

Reasons: Secured Area

4 Bldgs.

Cannon AFB 15300, 15310, 15320, 15330

Curry NM 88101

Landholding Agency: Air Force

Property Number: 18200630018

Status: Unutilized

Reasons: Secured Area

Bldg. 1910

Kirtland AFB

Bernalillo NM 87117

Landholding Agency: Air Force

Property Number: 18200640011

Status: Unutilized

Reasons: Secured Area

Unsuitable Properties

Building

New York

Warehouse

Whitney Lake Project

Whitney Point Co: Broome NY 13862-0706

Landholding Agency: COE

Property Number: 31199630007

Status: Unutilized

Reasons: Extensive deterioration

North Carolina

Bldg. FAL-19090

Falls Lake

Raleigh NC

Landholding Agency: COE

Property Number: 31200620023

Status: Unutilized

Reasons: Extensive deterioration

Preston Clark USARC

1301 N. Memorial Dr.

Greenville Co: Pitt NC 27834

Landholding Agency: COE

Property Number: 31200620032

Status: Unutilized

Reasons: Extensive deterioration 30 Bldgs.

W. Kerr Scott Project

Wilkesboro NC

Landholding Agency: COE

Property Number: 31200710014

Status: Unutilized

Reasons: Extensive deterioration

Unsuitable Properties

Building

North Dakota

8 Bldgs.

Grand Forks AFB

Grand Forks ND 58205

Landholding Agency: Air Force

Property Number: 18200640012

Status: Unutilized

Directions: 6102, 6105, 6106, 6108, 6202, 6205, 6207, 6208

Reasons: Within 2000 ft. of flammable or explosive material 6 Bldgs.

Grand Forks AFB

Grand Forks ND 58205

Landholding Agency: Air Force

Property Number: 18200640013

Status: Unutilized

Directions: 6103, 6104, 6107, 6109, 6204, 6206

Reasons: Within 2000 ft. of flammable or explosive material

Bldg. 1828

Grand Forks AFB

Grand Forks ND 58205

Landholding Agency: Air Force

Property Number: 18200640014

Status: Unutilized

Reasons: Within 2000 ft. of flammable or explosive material,

Within airport runway clear zone,

Secured Area

Unsuitable Properties

Building

North Dakota

Bldg. 1329

Grand Forks AFB

Grand Forks ND 58205

Landholding Agency: Air Force

Property Number: 18200640015

Status: Unutilized

Reasons: Within airport runway clear zone, Within 2000 ft. of flammable or explosive material, Secured Area

Bldgs. 1330, 1830

Grand Forks AFB

Grand Forks ND 58205

Landholding Agency: Air Force

Property Number: 18200640016

Status: Unutilized

Reasons: Secured Area, Within airport runway clear zone, Within 2000 ft. of flammable or explosive material

5 Bldgs.

Grand Forks AFB

Grand Forks ND 58205

Landholding Agency: Air Force

Property Number: 18200640017

Status: Unutilized

Directions: 1202, 1212, 1216, 1219, 1223

Reasons: Within airport runway clear zone, Secured Area, Within 2000 ft. of flammable or explosive material

Unsuitable Properties

Building

North Dakota

8 Bldgs.

Grand Forks AFB

Grand Forks ND 58205

Landholding Agency: Air Force

Property Number: 18200640018

Status: Unutilized

Directions: 1204, 1206, 1210, 1213, 1214, 1215, 1217, 1221

Reasons: Within airport runway clear zone, Within 2000 ft. of flammable or explosive material, Secured Area

5 Bldgs.

Grand Forks AFB

Grand Forks ND 58205

Landholding Agency: Air Force

Property Number: 18200640019

Status: Unutilized

Directions: 1381, 1371, 1378, 1358, 1349

Reasons: Within 2000 ft. of flammable or explosive material, Within airport runway clear zone, Secured Area

Bldg. 1211

Grand Forks AFB

Grand Forks ND 58205

Landholding Agency: Air Force

Property Number: 18200640020

Status: Unutilized

Reasons: Within 2000 ft. of flammable or explosive material, Within airport runway clear zone, Secured Area

Unsuitable Properties

Building

North Dakota

22 Bldgs.

Grand Forks AFB

Grand Forks ND 58205

Landholding Agency: Air Force

Property Number: 18200640021

Status: Unutilized

Reasons: Within 2000 ft. of flammable or explosive material, Within airport runway clear zone, Secured Area

13 Bldgs.

Grand Forks AFB

Grand Forks ND 58205

Landholding Agency: Air Force

Property Number: 18200640022

Status: Unutilized

Reasons: Within 2000 ft. of flammable or explosive material, Within airport runway clear zone, Secured Area

Bldgs. 1326, 1328, 1826

Grand Forks AFB

Grand Forks ND 58205

Landholding Agency: Air Force

Property Number: 18200640023

Status: Unutilized

Reasons: Within airport runway clear zone, Within 2000 ft. of flammable or explosive material, Secured Area

Unsuitable Properties

Building

North Dakota

Bldg. 1324

Grand Forks AFB

Grand Forks ND 58205

Landholding Agency: Air Force

Property Number: 18200640024

Status: Unutilized

Reasons: Within 2000 ft. of flammable or explosive material, Within airport runway clear zone, Secured Area

Bldg. 1411

Grand Forks AFB

Grand Forks ND 58205

Landholding Agency: Air Force

Property Number: 18200640025

Status: Unutilized

Reasons: Within airport runway clear zone, Within 2000 ft. of flammable or explosive material, Secured Area

5 Bldgs.

Grand Forks

Grand Forks ND 58205

Landholding Agency: Air Force

Property Number: 18200640026

Status: Unutilized

Directions: 1222, 6, 1203, 1207, 2

Reasons: Secured Area, Within airport runway clear zone, Within 2000 ft. of flammable or explosive material

Unsuitable Properties

Building

North Dakota

Bldg. 1325

Grand Forks AFB

Grand Forks ND 58205

Landholding Agency: Air Force

Property Number: 18200640027

Status: Unutilized

Reasons: Within 2000 ft. of flammable or explosive material, Secured Area

11 Bldgs.

Grand Forks AFB

Grand Forks ND 58205

Landholding Agency: Air Force

Property Number: 18200640028

Status: Unutilized

Reasons: Within airport runway clear zone, Within 2000 ft. of flammable or explosive material, Secured Area

18 Bldgs.

Grand Forks AFB

Grand Forks ND 58205

Landholding Agency: Air Force

Property Number: 18200640029

Status: Unutilized

Reasons: Within airport runway clear zone, Within 2000 ft. of flammable or explosive material, Secured Area

Unsuitable Properties

Building

North Dakota

Bldg. 1520

Grand Forks AFB

Grand Forks ND 58205

Landholding Agency: Air Force

Property Number: 18200640030

Status: Unutilized

Reasons: Within airport runway clear zone, Within 2000 ft. of flammable or explosive material, Secured Area

Bldg. 1228

Grand Forks AFB

Grand Forks ND 58205

Landholding Agency: Air Force

Property Number: 18200640031

Status: Unutilized

Reasons: Within 2000 ft. of flammable or explosive material, Within airport runway clear zone, Secured Area

Bldg. 1849

Grand Forks AFB

Grand Forks ND 58205

Landholding Agency: Air Force

Property Number: 18200640032

Status: Unutilized

Reasons: Within 2000 ft. of flammable or explosive material, Secured Area

Unsuitable Properties

Building

North Dakota

Bldg. 1813

Grand Forks AFB

Grand Forks ND 58205

Landholding Agency: Air Force

Property Number: 18200640033

Status: Unutilized

Reasons: Within 2000 ft. of flammable or explosive material, Secured Area

Bldg. 1839

Grand Forks AFB

Grand Forks ND 58205

Landholding Agency: Air Force

Property Number: 18200640034

Status: Unutilized

Reasons: Secured Area, Within 2000 ft. of flammable or explosive material

Bldg. 1809

Grand Forks AFB

Grand Forks ND 58205

Landholding Agency: Air Force

Property Number: 18200640035

Status: Unutilized

Reasons: Within 2000 ft. of flammable or explosive material, Secured Area

Unsuitable Properties

Building

Ohio

House

C.J. Brown Lake

Springfield OH

Landholding Agency: COE

Property Number: 31200620024

Status: Unutilized

Reasons: Extensive deterioration

Oklahoma

Comfort Station

LeFlore Landing PUA

Sallisaw Co: LeFlore OK 74955-9445

Landholding Agency: COE

Property Number: 31200240008

Status: Excess

Reasons: Extensive deterioration

Comfort Station

Braden Bend PUA

Sallisaw Co: LeFlore OK 74955-9445

Landholding Agency: COE

Property Number: 31200240009

Status: Excess

Reasons: Extensive deterioration

Water Treatment Plant

Salt Creek Cove

Sawyer Co: Choctaw OK 74756-0099

Landholding Agency: COE

Property Number: 31200240010

Status: Excess

Reasons: Extensive deterioration

Unsuitable Properties

Building

Oklahoma

Water Treatment Plant

Wilson Point

Sawyer Co: Choctaw OK 74756-0099

Landholding Agency: COE

Property Number: 31200240011

Status: Excess

Reasons: Extensive deterioration

2 Comfort Stations

Landing PUA/Juniper Point PUA

Stigler Co: McIntosh OK 74462-9440

Landholding Agency: COE

Property Number: 31200240012

Status: Excess

Reasons: Extensive deterioration

Filter Plant/Pumphouse

South PUA

Stigler Co: McIntosh OK 74462-9440

Landholding Agency: COE

Property Number: 31200240013

Status: Excess

Reasons: Extensive deterioration

Filter Plant/Pumphouse

North PUA

Stigler Co: McIntosh OK 74462-9440

Landholding Agency: COE

Property Number: 31200240014

Status: Excess

Reasons: Extensive deterioration

Unsuitable Properties

Building

Oklahoma

Filter Plant/Pumphouse

Juniper Point PUA

Stigler Co: McIntosh OK 74462-9440

Landholding Agency: COE

Property Number: 31200240015

Status: Excess

Reasons: Extensive deterioration

Comfort Station

Juniper Point PUA

Stigler Co: McIntosh OK 74462-9440

Landholding Agency: COE

Property Number: 31200240016

Status: Excess

Reasons: Extensive deterioration

Comfort Station

Brooken Cove PUA

Stigler Co: McIntosh OK 74462-9440

Landholding Agency: COE

Property Number: 31200240017

Status: Excess

Reasons: Extensive deterioration

2 Bldgs.

Outlet Channel/Walker Creek

Waurika OK 73573-0029

Landholding Agency: COE

Property Number: 31200340013

Status: Excess

Reasons: Extensive deterioration

Unsuitable Properties

Building

Oklahoma

2 Bldgs.

Damsite South

Stigler OK 74462-9440

Landholding Agency: COE

Property Number: 31200340014

Status: Excess

Reasons: Extensive deterioration

19 Bldgs.

Kaw Lake

Ponca City OK 74601-9962

Landholding Agency: COE

Property Number: 31200340015

Status: Excess

Reasons: Extensive deterioration

30 Bldgs.

Keystone Lake

Sand Springs OK 74063-9338

Landholding Agency: COE

Property Number: 31200340016

Status: Excess

Reasons: Extensive deterioration

13 Bldgs.

Oologah Lake

Oologah OK 74053-0700

Landholding Agency: COE

Property Number: 31200340017

Status: Excess

Reasons: Extensive deterioration

Unsuitable Properties

Building

Oklahoma

14 Bldgs.

Pine Creek Lake

Valliant OK 74764-9801

Landholding Agency: COE

Property Number: 31200340018

Status: Excess

Reasons: Extensive deterioration

6 Bldgs.

Sardis Lake

Clayton OK 74536-9729

Landholding Agency: COE

Property Number: 31200340019

Status: Excess

Reasons: Extensive deterioration

24 Bldgs.

Skiatook Lake

Skiatook OK 74070-9803

Landholding Agency: COE

Property Number: 31200340020

Status: Excess

Reasons: Extensive deterioration

40 Bldgs.

Eufaula Lake

Stigler OK 74462-5135

Landholding Agency: COE

Property Number: 31200340021

Status: Excess

Reasons: Extensive deterioration

Unsuitable Properties

Building

Oklahoma

2 Bldgs.

Holiday Cove

Stigler OK 74462-5135

Landholding Agency: COE

Property Number: 31200340022

Status: Excess

Reasons: Extensive deterioration

18 Bldgs.

Fort Gibson

Ft. Gibson Co: Wagoner OK 74434-0370

Landholding Agency: COE

Property Number: 31200340023

Status: Excess

Reasons: Extensive deterioration

2 Bldgs.

Fort Supply

Ft. Supply Co: Woodward OK 73841-0248

Landholding Agency: COE

Property Number: 31200340024

Status: Excess

Reasons: Extensive deterioration

Game Bird House

Fort Supply Lake

Ft. Supply Co: Woodward OK 73841-0248

Landholding Agency: COE

Property Number: 31200340025

Status: Excess

Reasons: Extensive deterioration

Unsuitable Properties

Building

Oklahoma

11 Bldgs.

Hugo Lake

Sawyer OK 74756-0099

Landholding Agency: COE

Property Number: 31200340026

Status: Excess

Reasons: Extensive deterioration

5 Bldgs.

Birch Cove/Twin Cove

Skiatook OK 74070-9803

Landholding Agency: COE

Property Number: 31200340027

Status: Excess

Reasons: Extensive deterioration

2 Bldgs.

Fairview Group Camp

Canton OK 73724-0069

Landholding Agency: COE

Property Number: 31200340028

Status: Excess

Reasons: Extensive deterioration

2 Bldgs.

Chouteau Bluff

Gore Co: Wagoner OK 74935-9404

Landholding Agency: COE

Property Number: 31200340029

Status: Excess

Reasons: Extensive deterioration

Unsuitable Properties

Building

Oklahoma

2 Bldgs.

Newt Graham L

Gore OK 74935-9404

Landholding Agency: COE

Property Number: 31200340030

Status: Excess

Reasons: Extensive deterioration

6 Bldgs.

Damsite/Fisherman's Landing

Sallisaw OK 74955-9445

Landholding Agency: COE

Property Number: 31200340031

Status: Excess

Reasons: Extensive deterioration

10 Bldgs.

Webbers Falls Lake

Gore OK 74435-5541

Landholding Agency: COE

Property Number: 31200340032

Status: Excess

Reasons: Extensive deterioration

14 Bldgs.

Copan Lake

Copan OK 74022-9762

Landholding Agency: COE

Property Number: 31200340033

Status: Excess

Reasons: Extensive deterioration

Unsuitable Properties

Building

Oklahoma

Bldg.

Lower Storage Yard

Skiatook Co: Osage OK 74070

Landholding Agency: COE

Property Number: 31200530007

Status: Excess

Reasons: Extensive deterioration

3 Bldgs.

Birch Cove PUA

Skiatook Co: Osage OK 74070

Landholding Agency: COE

Property Number: 31200530008

Status: Excess

Reasons: Extensive deterioration

Bldg.

Canadian Public Use Area

Canton Co: Blaine OK 73724

Landholding Agency: COE

Property Number: 31200530009

Status: Excess

Reasons: Extensive deterioration

3 Bldgs.

Porum Landing PUA

Stigler Co: McIntosh OK 74462

Landholding Agency: COE

Property Number: 31200530010

Status: Excess

Reasons: Extensive deterioration

Unsuitable Properties

Building

Oklahoma

2 Bldgs.

Taylor Ferry

Ft. Gibson Co: Wagoner OK 74434

Landholding Agency: COE

Property Number: 31200530011

Status: Excess

Reasons: Extensive deterioration

2 Bldgs.

Bluff/Afton Landing

Ft. Gibson Co: Wagoner OK 74434

Landholding Agency: COE

Property Number: 31200530012

Status: Excess

Reasons: Extensive deterioration

Bldg.

Lake Office

Ft. Supply Co: Woodward OK 73841

Landholding Agency: COE

Property Number: 31200530013

Status: Excess

Reasons: Extensive deterioration

4 Bldgs.

Overlook PUA

Ft. Supply Co: Texas OK 73841

Landholding Agency: COE

Property Number: 31200530014

Status: Excess

Reasons: Extensive deterioration

Unsuitable Properties

Building

Oklahoma

Bldg.

Hugo Lake

Sawyer Co: Chocktaw OK 74756

Landholding Agency: COE

Property Number: 31200530015

Status: Excess

Reasons: Extensive deterioration

2 Bldgs.

Sarge Creek PUA

Ponca City Co: Kay OK 74601

Landholding Agency: COE

Property Number: 31200530016

Status: Excess

Reasons: Extensive deterioration

5 Bldgs.

Hawthorne Bluff

Oologah Co: Rogers OK 74053

Landholding Agency: COE

Property Number: 31200530017

Status: Excess

Reasons: Extensive deterioration

12 Bldgs.

Trout Stream PUAs

Gore Co: Sequoyah OK 74435

Landholding Agency: COE

Property Number: 31200530018

Status: Excess

Reasons: Extensive deterioration

Unsuitable Properties

Building

Oklahoma

14 Bldgs.

Chicken Creek PUAs

Gore Co: Cherokee OK 74435

Landholding Agency: COE

Property Number: 31200530019

Status: Excess

Reasons: Extensive deterioration

4 Bldgs.

Snake Creek Area

Gore Co: Sequoyah OK 74435

Landholding Agency: COE

Property Number: 31200530020

Status: Excess

Reasons: Extensive deterioration

3 Bldgs.

Brewer's Bend

Gore Co: Muskogee OK 74435

Landholding Agency: COE

Property Number: 31200530021

Status: Excess

Reasons: Extensive deterioration

Facility

Hulah Lake

Copan Co: Osage OK 74022

Landholding Agency: COE

Property Number: 31200620025

Status: Excess

Reasons: Extensive deterioration

Unsuitable Properties

Building

Oklahoma

Bldg.

Webbers Falls

Muskogee OK 74435

Landholding Agency: COE

Property Number: 31200620026

Status: Excess

Reasons: Extensive deterioration

24 Bldgs.

Hulah Lake

Copan OK

Landholding Agency: COE

Property Number: 31200630011

Status: Unutilized

Reasons: Extensive deterioration

Bldgs. 44760, 44707

Canton Lake

Canton OK 73724

Landholding Agency: COE

Property Number: 31200630012

Status: Unutilized

Reasons: Extensive deterioration

Bldg.

Skiatook Lake

Skiatook OK 74070

Landholding Agency: COE

Property Number: 31200630013

Status: Unutilized

Reasons: Extensive deterioration

Unsuitable Properties

Building

Oklahoma

Bldgs. 41995, 56445, 41996

WD Mayo Lock

Spiro OK 74959

Landholding Agency: COE

Property Number: 31200630014

Status: Unutilized

Reasons: Extensive deterioration

Bldgs. 43263, 42364

Oologah Lake

Oologah OK 74053

Landholding Agency: COE

Property Number: 31200630015

Status: Unutilized

Reasons: Extensive deterioration

Bldg.

Webbers Falls Lake

Webbers Falls OK

Landholding Agency: COE

Property Number: 31200630016

Status: Unutilized

Reasons: Extensive deterioration

Bldgs. 43523, 43820

Hugo Lake

Sawyer OK 74756

Landholding Agency: COE

Property Number: 31200630017

Status: Unutilized

Reasons: Extensive deterioration

Unsuitable Properties

Building

Oklahoma

Bldg.

Newt Graham Lock 18

Inola OK

Landholding Agency: COE

Property Number: 31200640014

Status: Unutilized

Reasons: Extensive deterioration

Bldg.

Kerr Lock 15

Sallisaw OK 74955

Landholding Agency: COE

Property Number: 31200640015

Status: Unutilized

Reasons: Extensive deterioration

4 Bldgs.

Gore OK 74435

Landholding Agency: COE

Property Number: 31200640016

Status: Unutilized

Directions: Afton Landing or Bluff Landing

Reasons: Extensive deterioration

Pinecr-58321

Pine Creek Lake

Valiant OK

Landholding Agency: COE

Property Number: 31200710015

Status: Unutilized

Reasons: Extensive deterioration

Unsuitable Properties

Building

Oklahoma

KAW—58649

Garrett's Landing

Kaw City OK

Landholding Agency: COE

Property Number: 31200710016

Status: Unutilized

Reasons: Extensive deterioration

Compound

Hugo Lake

Hugo OK

Landholding Agency: COE

Property Number: 31200710017

Status: Unutilized

Reasons: Extensive deterioration

Oregon

2 Floating Docks

Rogue River

Gold Beach Co: Curry OR 97444

Landholding Agency: COE

Property Number: 31200430015

Status: Excess

Reasons: Floodway

2 Trailers

John Day Project

#1 West Marine Drive

Boardman Co: Morrow OR 97818

Landholding Agency: COE

Property Number: 31200510012

Status: Unutilized

Reasons: Extensive deterioration

Unsuitable Properties

Building

South Carolina

Bldg. JST-18669

Strom Thurmond Project

McCormick SC

Landholding Agency: COE

Property Number: 31200710018

Status: Unutilized

Reasons: Extensive deterioration

South Dakota

Mobile Home

Tract L-1295

Oahe Dam

Potter SD 00000

Landholding Agency: COE

Property Number: 31200030001

Status: Excess

Reasons: Extensive deterioration

Tennessee

Bldg. 204

Cordell Hull Lake and Dam Project

Defeated Creek Recreation Area

Carthage Co: Smith TN 37030

Landholding Agency: COE

Property Number: 31199011499

Status: Unutilized

Directions: US Highway 85

Reasons: Floodway

Unsuitable Properties

Building

Tennessee

Tract 2618 (Portion)

Cordell Hull Lake and Dam Project

Roaring River Recreation Area

Gainesboro Co: Jackson TN 38562

Landholding Agency: COE

Property Number: 31199011503

Status: Underutilized

Directions: TN Highway 135

Reasons: Floodway

Water Treatment Plant

Dale Hollow Lake Project

Obey River Park, State Hwy 42

Livingston Co: Clay TN 38351

Landholding Agency: COE

Property Number: 31199140011

Status: Excess

Reasons: Other—water treatment plant

Water Treatment Plant

Dale Hollow Lake Project

Lillydale Recreation Area, State Hwy 53

Livingston Co: Clay TN 38351

Landholding Agency: COE

Property Number: 31199140012

Status: Excess

Reasons: Other—water treatment plant

Unsuitable Properties

Building

Tennessee

Water Treatment Plant

Dale Hollow Lake Project

Willow Grove Recreational Area, Hwy No. 53

Livingston Co: Clay TN 38351

Landholding Agency: COE

Property Number: 31199140013

Status: Excess

Reasons: Other—water treatment plant

Comfort Station/Land

Cook Campground

Nashville Co: Davidson TN 37214

Landholding Agency: COE

Property Number: 31200420024

Status: Unutilized

Reasons: Floodway

Tracts 915, 920, 931C-1

Cordell Hull Dam/Reservoir

Cathage Co: Smith TN 37030

Landholding Agency: COE

Property Number: 31200430016

Status: Unutilized

Reasons: Other—landlocked, Floodway

Residence #5

5050 Dale Hollow Dam Rd.

Celina Co: Clay TN 38551

Landholding Agency: COE

Property Number: 31200540010

Status: Unutilized

Reasons: Other—landlocked

Unsuitable Properties

Building

Tennessee

Bldg.

Dale Hollow Lake Dam

Celina Co: Clay TN 38551

Landholding Agency: COE

Property Number: 31200610013

Status: Unutilized

Reasons: Extensive deterioration

Texas

Comfort Station

Overlook PUA

Powderly Co: Lamar TX 75473-9801

Landholding Agency: COE

Property Number: 31200240018

Status: Excess

Reasons: Extensive deterioration

58 Bldgs.

Texoma Lake

Denison TX 75020-6425

Landholding Agency: COE

Property Number: 31200340035

Status: Excess

Reasons: Extensive deterioration

Bldg.

West Burns Run Park

Denison Co: Grayson TX 75020

Landholding Agency: COE

Property Number: 31200530022

Status: Excess

Reasons: Extensive deterioration

Unsuitable Properties

Building

Texas

Bldg. 28

Texoma Lake

Denison TX

Landholding Agency: COE

Property Number: 31200630020

Status: Unutilized

Reasons: Extensive deterioration

Vermont

Bldg. 110

Burlington IAP

Chittenden VT 05403

Landholding Agency: Air Force

Property Number: 18200710008

Status: Unutilized

Reasons: Secured Area, within 2000 ft. of flammable or explosive material

Virginia

PHL-188855, 16498, 16693

Mize Point Campground

Bassett VA 24055

Landholding Agency: COE

Property Number: 31200510014

Status: Unutilized

Reasons: Extensive deterioration

Unsuitable Properties

Building

Washington

4 Facilities

Fairchild AFB

Pines Military Housing

Spokane WA 99011

Landholding Agency: Air Force

Property Number: 18200710009

Status: Unutilized

Directions: 8565, 8569, 8577, 8581

Reasons: Secured Area

6 Facilities

Fairchild AFB

Pines Military Housing

Spokane WA 99011

Landholding Agency: Air Force

Property Number: 18200710010

Status: Unutilized

Directions: 8630, 8634, 8638, 8639, 8640, 8644

Reasons: Secured Area

6 Facilities

Fairchild AFB

Pines Military Housing

Spokane WA 99011

Landholding Agency: Air Force

Property Number: 18200710011

Status: Unutilized

Directions: 8571, 8575, 8583, 8587, 8692, 8696

Reasons: Secured Area

Unsuitable Properties

Building

Washington

6 Facilities

Fairchild AFB

Pines Military Housing

Spokane WA 99011

Landholding Agency: Air Force

Property Number: 18200710012

Status: Unutilized

Directions: 8618, 8622, 8624, 8625, 8628, 8629

Reasons: Secured Area

Facilities 8637, 8632

Fairchild AFB

Pines Military Housing

Spokane WA 99011

Landholding Agency: Air Force

Property Number: 18200710013

Status: Unutilized

Reasons: Secured Area

10 Facilities

Fairchild AFB

Pines Military Housing

Spokane WA 99011

Landholding Agency: Air Force

Property Number: 18200710014

Status: Unutilized

Directions: 8620, 8626, 8627, 8636, 8642, 8694, 8567, 8573, 8579, 8585

Reasons: Secured Area

Unsuitable Properties

Building

Washington

Rec Storage Bldg.

Richland Parks

Richland Co: Benton WA 99352

Landholding Agency: COE

Property Number: 31200240019

Status: Unutilized

Reasons: Extensive deterioration

Railroad Club Bldg.

McNary Lock Proj

Richland Co: Benton WA 99352

Landholding Agency: COE

Property Number: 31200410006

Status: Excess

Reasons: Within 2000 ft. of flammable or explosive material

Bldgs. 437, 853

Naval Base

Bremerton Co: Kitsap WA 98310

Landholding Agency: Navy

Property Number: 77200710018

Status: Unutilized

Reasons: Secured Area

Bldg. 1039

Naval Base

Bremerton Co: Kitsap WA 98310

Landholding Agency: Navy

Property Number: 77200710019

Status: Unutilized

Reasons: Within 2000 ft. of flammable or explosive material, Secured Area

Unsuitable Properties

Building

Washington

Bldgs. 1400, 1461

Naval Base

Bremerton Co: Kitsap WA 98310

Landholding Agency: Navy

Property Number: 77200710020

Status: Unutilized

Reasons: Within 2000 ft. of flammable or explosive material, Secured Area

Bldg. 6026

Naval Base

Bremerton Co: Kitsap WA 98310

Landholding Agency: Navy

Property Number: 77200710021

Status: Unutilized

Reasons: Secured Area Within 2000 ft. of flammable or explosive material

Bldgs. 6608, 6609, 6904

Naval Base

Bremerton Co: Kitsap WA 98310

Landholding Agency: Navy

Property Number: 77200710022

Status: Unutilized

Reasons: Secured Area Within 2000 ft. of flammable or explosive material

Unsuitable Properties

Building

West Virginia

CELRH-OR-BLN

Hinton WV 25951

Landholding Agency: COE

Property Number: 31200640020

Status: Unutilized

Reasons: Secured Area

Land

Kentucky

Tract 4626

Barkley, Lake, Kentucky and Tennessee

Donaldson Creek Launching Area

Cadiz Co: Trigg KY 42211

Landholding Agency: COE

Property Number: 31199010030

Status: Underutilized

Directions: 14 miles from U.S. Highway 68

Reasons: Floodway

Tract AA-2747

Wolf Creek Dam and Lake Cumberland

US HWY. 27 to Blue John Road

Burnside Co: Pulaski KY 42519

Landholding Agency: COE

Property Number: 31199010038

Status: Underutilized

Reasons: Floodway

Unsuitable Properties

Land

Kentucky

Tract AA-2726

Wolf Creek Dam and Lake Cumberland

KY HWY. 80 to Route 769

Burnside Co: Pulaski KY 42519

Landholding Agency: COE

Property Number: 31199010039

Status: Underutilized

Reasons: Floodway

Tract 1358

Barkley Lake, Kentucky and Tennessee

Eddyville Recreation Area

Eddyville Co: Lyon KY 42038

Landholding Agency: COE

Property Number: 31199010043

Status: Excess

Directions: US Highway 62 to state highway 93

Reasons: Floodway

Red River Lake Project

Stanton Co: Powell KY 40380

Landholding Agency:

COE

Property Number: 31199011684

Status: Unutilized

Directions: Exit Mr. Parkway at the Stanton and Slade Interchange, then take SR Hand 15 north to SR 613.

Reasons: Floodway

Unsuitable Properties

Land

Kentucky

Barren River Lock No. 1

Richardsville Co: Warren KY 42270

Landholding Agency: COE

Property Number: 31199120008

Status: Unutilized

Reasons: Floodway

Green River Lock No. 3

Rochester Co: Butler KY 42273

Landholding Agency: COE

Property Number: 31199120009

Status: Unutilized

Directions: Off State Hwy. 369, which runs off of Western Ky. Parkway

Reasons: Floodway

Green River Lock No. 4

Woodbury Co: Butler KY 42288

Landholding Agency: COE

Property Number: 31199120014

Status: Underutilized

Directions: Off State Hwy 403, which is off State Hwy 231

Reasons: Floodway

Floodway

Green River Lock No. 5

Readville Co: Butler KY 42275

Landholding Agency: COE

Property Number: 31199120015

Status: Unutilized

Directions: Off State Highway 185

Reasons: Floodway

Unsuitable Properties

Land

Kentucky

Green River Lock No. 6

Brownsville Co: Edmonson KY 42210

Landholding Agency: COE

Property Number: 31199120016

Status: Underutilized

Directions: Off State Highway 259

Reasons: Floodway, Vacant land west of locksite

Greenup Locks and Dam

5121 New Dam Road

Rural Co: Greenup KY 41144

Landholding Agency: COE

Property Number: 31199120017

Status: Unutilized

Reasons: Floodway

Maryland

Tract 131R

Youghiogheny River Lake, Rt. 2, Box 100

Friendsville Co: Garrett MD

Landholding Agency: COE

Property Number: 31199240007

Status: Underutilized

Reasons: Floodway

Unsuitable Properties

Land

Mississippi

Parcel 1

Grenada Lake

Section 20

Grenada Co: Grenada MS 38901-0903

Landholding Agency: COE

Property Number: 31199011018

Status: Underutilized

Reasons: Within airport runway clear zone

Missouri

Ditch 19, Item 2, Tract No. 230

St. Francis Basin Project

2½ miles west of Malden

null Co: Dunklin MO

Landholding Agency: COE

Property Number: 31199130001

Status: Unutilized

Reasons: Floodway

Ohio

Mosquito Creek Lake

Everett Hull Road Boat Launch

Cortland Co: Trumbull OH 44410-9321

Landholding Agency: COE

Property Number: 31199440007

Status: Underutilized

Reasons: Floodway

Unsuitable Properties

Land

Ohio

Mosquito Creek Lake

Housel—Craft Rd., Boat Launch

Cortland Co: Trumbull OH 44410-9321

Landholding Agency: COE

Property Number: 31199440008

Status: Underutilized

Reasons: Floodway

36 Site Campground

German Church Campground

Berlin Center Co: Portage OH 44401-9707

Landholding Agency: COE

Property Number: 31199810001

Status: Unutilized

Reasons: Floodway

Pennsylvania

Lock and Dam #7

Monongahela River

Greensboro Co: Greene PA

Landholding Agency: COE

Property Number: 31199011564

Status: Unutilized

Directions: Left hand side of entrance roadway to project

Reasons: Floodway

Mercer Recreation Area

Shenango Lake

Transfer Co: Mercer PA 16154

Landholding Agency: COE

Property Number: 31199810002

Status: Unutilized

Reasons: Floodway

Unsuitable Properties

Land

Pennsylvania

Tract No. B-212C

Upstream from Gen. Jadwin Dam

Honesdale Co: Wayne PA 18431

Landholding Agency: COE

Property Number: 31200020005

Status: Unutilized

Reasons: Floodway

Tennessee

Brooks Bend

Cordell Hull Dam and Reservoir

Highway 85 to Brooks Bend Road

Gainesboro Co: Jackson TN 38562

Landholding Agency: COE

Property Number: 21199040413

Status: Underutilized

Directions: Tracts 800, 802-806, 835-837, 900-902, 1000-1003, 1025

Reasons: Floodway

Cheatham Lock and Dam

Highway 12

Ashland City Co: Cheatham TN 37015

Landholding Agency: COE

Property Number: 21199040415

Status: Underutilized

Directions: Tracts E-513, E-512-1 and E-512-2

Reasons: Floodway

Unsuitable Properties

Land

Tennessee

Tract 2321

J. Percy Priest Dam and Reservoir

Murfreesboro Co: Rutherford TN 37130

Landholding Agency: COE

Property Number: 31199010935

Status: Excess

Directions: South of Old Jefferson Pike

Reasons: Other—landlocked

Tract 6737

Blue Creek Recreation Area

Barkley Lake, Kentucky and Tennessee

Dover Co: Stewart TN 37058

Landholding Agency: COE

Property Number: 31199011478

Status: Underutilized

Directions: U.S. Highway 79/TN Highway 761

Reasons: Floodway

Tracts 3102, 3105, and 3106

Brimstone Launching Area

Cordell Hull Lake and Dam Project

Gainesboro Co: Jackson TN 38562

Landholding Agency: COE

Property Number: 31199011479

Status: Excess

Directions: Big Bottom Road

Reasons: Floodway

Unsuitable Properties

Land

Tennessee

Tract 3507

Proctor Site

Cordell Hull Lake and Dam Project

Celina Co: Clay TN 38551

Landholding Agency: COE

Property Number: 31199011480

Status: Unutilized

Directions: TN Highway 52

Reasons: Floodway

Tract 3721

Obey

Cordell Hull Lake and Dam Project

Celina Co: Clay TN 38551

Landholding Agency: COE

Property Number: 31199011481

Status: Unutilized

Directions: TN Highway 53

Reasons: Floodway

Tracts 608, 609, 611 and 612

Sullivan Bend Launching Area

Cordell Hull Lake and Dam Project

Carthage Co: Smith TN 37030

Landholding Agency: COE

Property Number: 31199011482

Status: Underutilized

Directions: Sullivan Bend Road

Reasons: Floodway

Unsuitable Properties

Land

Tennessee

Tracts 1710, 1716 and 1703

Flynns Lick Launching Ramp

Cordell Hull Lake and Dam Project

Gainesboro Co: Jackson TN 38562

Landholding Agency: COE

Property Number: 31199011484

Status: Underutilized

Directions: Whites Bend Road

Reasons: Floodway

Tract 1810

Wartrace Creek Launching Ramp

Cordell Hull Lake and Dam Project

Gainesboro Co: Jackson TN 38551

Landholding Agency: COE

Property Number: 31199011485

Status: Underutilized

Directions: TN Highway 85

Reasons: Floodway

Tract 2524

Jennings Creek

Cordell Hull Lake and Dam Project

Gainesboro Co: Jackson TN 38562

Landholding Agency: COE

Property Number: 31199011486

Status: Unutilized

Directions: TN Highway 85

Reasons: Floodway

Unsuitable Properties

Land

Tennessee

Tracts 2905 and 2907

Webster

Cordell Hull Lake and Dam Project

Gainesboro Co: Jackson TN 38551

Landholding Agency: COE

Property Number: 31199011487

Status: Unutilized

Directions: Big Bottom Road

Reasons: Floodway

Tracts 2200 and 2201

Gainesboro Airport

Cordell Hull Lake and Dam Project

Gainesboro Co: Jackson TN 38562

Landholding Agency: COE

Property Number: 31199011488

Status: Underutilized

Directions: Big Bottom Road

Reasons: Within airport runway clear zone, Floodway

Tracts 710C and 712C

Sullivan Island

Cordell Hull Lake and Dam Project

Carthage Co: Smith TN 37030

Landholding Agency: COE

Property Number: 31199011489

Status: Unutilized

Directions: Sullivan Bend Road

Reasons: Floodway

Unsuitable Properties

Land

Tennessee

Tract 2403, Hensley Creek

Cordell Hull Lake and Dam Project

Gainesboro Co: Jackson TN 38562

Landholding Agency: COE

Property Number: 31199011490

Status: Unutilized

Directions: TN Highway 85

Reasons: Floodway

Tracts 2117C, 2118 and 2120

Cordell Hull Lake and Dam Project

Trace Creek

Gainesboro Co: Jackson TN 38562

Landholding Agency: COE

Property Number: 31199011491

Status: Unutilized

Directions: Brooks Ferry Road

Reasons: Floodway

Tracts 424, 425 and 426

Cordell Hull Lake and Dam Project

Stone Bridge

Carthage Co: Smith TN 37030

Landholding Agency: COE

Property Number: 31199011492

Status: Unutilized

Directions: Sullivan Bend Road

Reasons: Floodway

Unsuitable Properties

Land

Tennessee

Tract 517

J. Percy Priest Dam and Reservoir

Suggs Creek Embayment

Nashville Co: Davidson TN 37214

Landholding Agency: COE

Property Number: 31199011493

Status: Underutilized

Directions: Interstate 40 to S. Mount Juliet Road.

Reasons: Floodway

Tract 1811

West Fork Launching Area

Smyrna Co: Rutherford TN 37167

Landholding Agency: COE

Property Number: 31199011494

Status: Underutilized

Directions: Florence Road near Enon Springs Road

Reasons: Floodway

Tract 1504

J. Perry Priest Dam and Reservoir

Lamon Hill Recreation Area

Smyrna Co: Rutherford TN 37167

Landholding Agency: COE

Property Number: 31199011495

Status: Underutilized

Directions: Lamon Road

Reasons: Floodway

Unsuitable Properties

Land

Tennessee

Tract 1500

J. Perry Priest Dam and Reservoir

Pools Knob Recreation

Smyrna Co: Rutherford TN 37167

Landholding Agency: COE

Property Number: 31199011496

Status: Underutilized

Directions: Jones Mill Road

Reasons: Floodway

Tracts 245, 257, and 256

J. Perry Priest Dam and Reservoir

Cook Recreation Area

Nashville Co: Davidson TN 37214

Landholding Agency: COE

Property Number: 31199011497

Status: Underutilized

Directions: 2.2 miles south of Interstate 40 near Saunders Ferry Pike.

Reasons: Floodway

Tracts 107, 109 and 110

Cordell Hull Lake and Dam Project

Two Prong

Carthage Co: Smith TN 37030

Landholding Agency: COE

Property Number: 31199011498

Status: Unutilized

Directions: US Highway 85

Reasons: Floodway

Unsuitable Properties

Land

Tennessee

Tracts 2919 and 2929

Cordell Hull Lake and Dam Project

Sugar Creek

Gainesboro Co: Jackson TN 38562

Landholding Agency: COE

Property Number: 31199011500

Status: Unutilized

Directions: Sugar Creek Road

Reasons: Floodway

Tracts 1218 and 1204

Cordell Hull Lake and Dam Project

Granville—Alvin Yourk Road

Granville Co: Jackson TN 38564

Landholding Agency: COE

Property Number: 31199011501

Status: Unutilized

Reasons: Floodway

Tract 2100

Cordell Hull Lake and Dam Project

Galbreaths Branch

Gainesboro Co: Jackson TN 38562

Landholding Agency: COE

Property Number: 31199011502

Status: Unutilized

Directions: TN Highway 53

Reasons: Floodway

Unsuitable Properties

Land

Tennessee

Tract 104 et al.

Cordell Hull Lake and Dam Project

Horshoe Bend Launching Area

Carthage Co: Smith TN 37030

Landholding Agency: COE

Property Number: 31199011504

Status: Underutilized

Directions: Highway 70 N

Reasons: Floodway

Tracts 510, 511, 513 and 514

J. Percy Priest Dam and Reservoir Project

Lebanon Co: Wilson TN 37087

Landholding Agency: COE

Property Number: 31199120007

Status: Underutilized

Directions: Vivrett Creek Launching Area, Alvin Sperry Road

Reasons: Floodway

Tract A-142, Old Hickory Beach

Old Hickory Blvd.

Old Hickory Co: Davidson TN 37138

Landholding Agency: COE

Property Number: 31199130008

Status: Underutilized

Reasons: Floodway

Unsuitable Properties

Land

Tennessee

Tract D, 7 acres

Cheatham Lock

Nashville Co: Davidson TN 37207

Landholding Agency: COE

Property Number: 31200020006

Status: Underutilized

Reasons: Floodway

Tract F-608

Cheatham Lock

Ashland Co: Cheatham TN 37015

Landholding Agency: COE

Property Number: 31200420021

Status: Unutilized

Reasons: Floodway

Tracts G702-G706

Cheatham Lock

Ashland Co: Cheatham TN 37015

Landholding Agency: COE

Property Number: 31200420022

Status: Unutilized

Reasons: Floodway

6 Tracts

Shutes Branch Campground

Lakewood Co: Wilson TN

Landholding Agency: COE

Property Number: 31200420023

Status: Unutilized

Reasons: Floodway

Unsuitable Properties

Land

Texas

Tracts 104, 105-1, 105-2

Joe Pool Lake

null Co: Dallas TX

Landholding Agency: COE

Property Number: 31199010397

Status: Underutilized

Reasons: Floodway

Part of Tract 201-3

Joe Pool Lake

null Co: Dallas TX

Landholding Agency: COE

Property Number: 31199010398

Status: Underutilized

Reasons: Floodway

Part of Tract 323

Joe Pool Lake

null Co: Dallas TX

Landholding Agency: COE

Property Number: 31199010399

Status: Underutilized

Reasons: Floodway

Tract 702-3

Granger Lake

Route 1, Box 172

Granger Co: Williamson TX 76530-9801

Landholding Agency: COE

Property Number: 31199010401

Status: Unutilized

Reasons: Floodway

Unsuitable Properties

Land

Texas

Tract 706

Granger Lake

Route 1, Box 172

Granger Co: Williamson TX 76530-9801

Landholding Agency: COE

Property Number: 31199010402

Status: Unutilized

Reasons: Floodway

Washington

2.8 acres

Tract P-1003

Kennewick Co: Benton WA 99336

Landholding Agency: COE

Property Number: 31200240020

Status: Excess

Reasons: Within 2000 ft. of flammable or explosive material

West Virginia

Morgantown Lock and Dam

Box 3 RD # 2

Morgantown Co: Monongahelia WV 26505

Landholding Agency: COE

Property Number: 31199011530

Status: Unutilized

Reasons: Floodway

Unsuitable Properties

Land

West Virginia

London Lock and Dam

Route 60 East

Rural Co: Kanawha WV 25126

Landholding Agency: COE

Property Number: 31199011690

Status: Unutilized

Directions: 20 miles east of Charleston, W. Virginia.

Reasons: Other—.03 acres; very narrow strip of land

Portion of Tract #101

Buckeye Creek

Sutton Co: Braxton WV 26601

Landholding Agency: COE

Property Number: 31199810006

Status: Excess

Reasons: Other—inaccessible

Summary for Unsuitable Properties = Total number of Properties 1226

[FR Doc. E7-2490 Filed 2-15-07; 8:45 am]

BILLING CODE 4210-67-P